DEPARTMENT OF THE INTERIOR

Fish and Wildlife Service

50 CFR Part 20

RIN 1018-AH79

Migratory Bird Hunting; Final Frameworks for Late-Season Migratory Bird Hunting Regulations

AGENCY: Fish and Wildlife Service, Interior.

ACTION: Final rule.

SUMMARY: The Fish and Wildlife Service (Service or we) prescribes final late-season frameworks from which States may select season dates, limits, and other options for the 2001-02 migratory bird hunting seasons. These late seasons include most waterfowl seasons, the earliest of which commences on or about October 1, 2001. The effect of this final rule is to facilitate the States' selection of hunting seasons and to further the annual establishment of the late-season migratory bird hunting regulations.

DATES: This rule takes effect on September 27, 2001.

ADDRESSES: States should send their season selections to: Chief, Division of Migratory Bird Management, U.S. Fish and Wildlife Service, Department of the Interior, ms 634-ARLSQ, 1849 C Street, NW., Washington, DC 20240. You may inspect comments during normal business hours in room 634, Arlington Square Building, 4401 N. Fairfax Drive, Arlington, Virginia.

FOR FURTHER INFORMATION CONTACT: Jonathan Andrew, Chief, or Ron W. Kokel, Division of Migratory Bird Management, U.S. Fish and Wildlife Service, (703) 358-1714.

SUPPLEMENTARY INFORMATION:

Regulations Schedule for 2001

On April 30, 2001, we published in the Federal Register (66 FR 21298) a proposal to amend 50 CFR part 20. The proposal provided a background and overview of the migratory bird hunting regulations process, and dealt with the establishment of seasons, limits, and other regulations for migratory game birds under §§ 20.101 through 20.107, 20.109, and 20.110 of subpart K. On June 14, 2001, we published in the Federal Register (66 FR 32297) a second document providing supplemental proposals for early- and late-season migratory bird hunting regulations frameworks and the proposed regulatory alternatives for the 2001-02 duck hunting season. The June 14 supplement also provided detailed information on the 2001-02 regulatory schedule and announced the Service Migratory Bird Regulations Committee (SRC) and Flyway Council meetings.

On June 20-21, we held open meetings with the Flyway Council Consultants at which the participants reviewed information on the current status of migratory shore and upland game birds and developed recommendations for the 2001-02 hunting regulations for these species plus regulations for migratory game birds in Alaska, Puerto Rico, and the Virgin Islands, special September waterfowl seasons, special sea duck seasons in the Atlantic Flyway, and extended falconry seasons. In addition, we reviewed and discussed preliminary information on the status of waterfowl as it related to the development and selection of the 2001-02 duck season regulatory packages. On July 24, we published in the Federal Register (66 FR 38494) a supplemental proposed rule specifically dealing with the proposed frameworks for these early-season regulations and the final regulatory alternatives for the 2001-02 duck hunting season. In the August 21, 2001, Federal Register (66 FR 44010), we published final frameworks for early migratory bird hunting seasons from which wildlife conservation agency officials from the States, Puerto Rico, and the Virgin Islands selected 2001-02 early-season hunting dates, hours, areas, and limits. Finally, on August 29, 2001, we published a final rule in the Federal Register (66 FR 45730) amending subpart K of title 50 CFR part 20 to set hunting seasons, hours, areas, and limits for early seasons.

On August 1-2, 2001, we held meetings, as announced in the April 30 and June 14 Federal Registers, to review the status of waterfowl. On August 28, 2001, we published in the Federal Register (66 FR 45516) the proposed frameworks for the 2001-02 late-season migratory bird hunting regulations. This document establishes final frameworks for late-season migratory bird hunting regulations for the 2001-02 season. We will publish State selections in the Federal Register as amendments to §§ 20.101 through 20.107, and § 20.109 of title 50 CFR part 20.

Population Status and Harvest

A brief summary of information on the status and harvest of waterfowl excerpted from various reports was included in the August 28 supplemental proposed rule. For more detailed information on methodologies and results, complete copies of the various reports are available at the address indicated under the caption ADDRESSES or from our website at http://migratorybirds.fws.gov.

Review of Public Comments and Flyway Council Recommendations

The preliminary proposed rulemaking, which appeared in the April 30 Federal Register, opened the public comment period for migratory game bird hunting regulations. The supplemental proposed rule, which appeared in the June 14 Federal Register, defined the public comment period for the proposed regulatory alternatives for the 2001-02 duck hunting season. The public comment period for the proposed regulatory alternatives ended July 6, 2001, and the public comment period for late-season issues ended on September 7, 2001. Written comments relating to the proposed late-season frameworks are summarized and discussed below in the order used in the April 30 proposed rule. Only the numbered items pertaining to late seasons for which written comments were received are included. Consequently, the issues do not follow in direct numerical or alphabetical order. We also received recommendations from all four Flyway Councils. Some recommendations supported continuation of last year's frameworks. Due to the comprehensive nature of the annual review of the frameworks performed by the Councils, support for continuation of last year's frameworks is assumed for items for which no recommendations were received. Council recommendations for changes in the frameworks are summarized below.

General

Written Comments: The Wildlife Management Institute supported the proposed late season migratory bird hunting regulations.

The Biodiversity Legal Foundation (BLF), The Fund for Animals (FFA), the Humane Society of the United States (HSUS), and other interests, in a joint letter, questioned the legality and substantive usefulness of the shortened public comment periods and requested that, at a minimum, the Service should provide a 30-day comment period on late season frameworks. Further, they expressed concern that the general public was not well represented in the regulations-development process and that the entire Flyway and framework process is seriously flawed and largely meaningless while allowing the Service to claim it is permitting public involvement in the process. They also questioned the legal ability of the States to establish their individual State hunting regulations before the Service publishes final frameworks. Lastly, they question the Service's claims that the environmental impacts of migratory bird hunting were evaluated in the 1988 Supplemental Environmental Impact Statement (SEIS 88). They claim SEIS 88 only evaluated the impacts associated with the framework process and did not provide a comprehensive analysis of the environmental impacts of migratory bird hunting.

Service Response: As we have stated previously, when the preliminary proposed rulemaking document was published in the April 30, 2001, Federal Register, we announced the comment periods for the early-season and late-season proposals and gave notice that the process of promulgating hunting regulations “must, by its nature, operate under time constraints.” Ample time must be given to gather and interpret survey data, consider recommendations and develop proposals, and to receive public comment. Scheduled dates are set to give the greatest possible opportunity for public input, while also meeting the legal obligations of the Administrative Procedures Act. We are obligated to, and do give serious consideration to all information received as public comment. We have long recognized the problems associated with the length of time necessary to establish the frameworks, and in conjunction with States, Flyway Councils, and the public, continue to seek new ways to streamline and improve the process.

Regarding the question of the legal ability of the States to establish their individual State hunting regulations before the Service publishes final frameworks, we do not have the authority or inclination to mandate the State process for establishing their annual migratory bird hunting regulations. Because each State has its own regulatory establishment process, time is of the essence once we propose frameworks. States waiting for the final frameworks before beginning their regulatory process would have insufficient time to select season dates and limits; to communicate those selections to us; and to establish and publicize the necessary regulations and procedures to implement their decisions. The States do not “violate” the Migratory Bird Treaty Act or Service regulations or policies by utilizing this type of process. All States understand that their regulations, based on our proposed frameworks, are subject to change pending the issuance of the final frameworks.

We disagree with the assertion that SEIS 88 only evaluated the impacts associated with the framework process and did not provide a comprehensive analysis of the environmental impacts of migratory bird hunting. SEIS 88 provides a programmatic analysis of the general effects of hunting regulations on migratory birds. Further, we annually assess populations status, harvest rates, harvest, and survivability of migratory game birds to determine the year-specific hunting regulations. This assessment is annually covered in an Environmental Assessment (EA).

Our long-term objectives continue to include providing opportunities to harvest portions of certain migratory game bird populations and to limit harvests to levels compatible with each population's ability to maintain healthy, viable numbers. Having taken into account the zones of temperature and the distribution, abundance, economic value, breeding habits and times and lines of flight of migratory birds, we believe that the hunting seasons provided herein are protective of migratory bird populations and long-term population goals and there is no evidence to suggest the frameworks provided are not appropriate.

We plan to initiate public scoping for the preparation of a supplemental programmatic EIS in the spring of 2002. The supplemental EIS will update the current EIS and will address the cumulative impacts of the issuance of annual hunting regulations permitting the sport hunting of migratory birds.

1. Ducks

Categories used to discuss issues related to duck harvest management are: (A) Harvest Strategy Considerations, (B) Regulatory Alternatives, (C) Zones and Split Seasons, and (D) Special Seasons/Species Management. The categories correspond to previously published issues/discussion, and only those containing substantial recommendations are discussed below.

B. Regulatory Alternatives

Council Recommendations: The Atlantic, Mississippi, Central, and Pacific Flyway Councils recommended adoption of the “liberal” regulations package for duck hunting seasons in 2001-02.

Service Response: The original Adaptive Harvest Management (AHM) protocol was based solely on the dynamics of midcontinent mallards, but efforts to account for eastern and western mallard stocks are progressing. For the 2001 hunting season, we recommend the consideration of a regulatory alternative for the Atlantic Flyway that depends exclusively on the status of eastern mallards. This arrangement should remain provisional, however, until the management implications of this approach are better understood. The recommended regulatory alternative for the western three flyways should continue to depend exclusively on the status of midcontinent mallards. The set of regulatory alternatives for this year, including specification of season lengths, bag limits, and framework dates, was finalized in the July 24 Federal Register, with the finalization of the 2001-02 regulatory alternatives. For the 2001-02 hunting season, we will utilize the “liberal” regulatory alternative (as described in the July 24 Federal Register) for all Flyways, based on 8.7 million mallards, and 2.7 million ponds in Prairie Canada, and 1.0 million eastern mallards.

D. Special Seasons/Species Management

i. Black Ducks

Council Recommendations: The Atlantic Flyway Council recommended allowing States to increase the daily bag limit on black ducks to 2 per day for 10 consecutive hunting days, provided the black duck season is closed for an equivalent number of days. During the remainder of the season, the black duck daily bag limit would be 1 bird per day.

Written Comments: The Massachusetts Division of Fisheries and Wildlife expressed disappointment in the Service's decision not to allow an option for a daily bag limit of two black ducks for 10 days. They urged reconsideration of the option.

The Wildlife Management Institute agreed with the Service's position on the importance of an international harvest strategy for black ducks and urged its completion.

Service Response: We remain concerned about the current status of black duck populations and believe the best approach is to focus on the International Harvest strategy that has not yet been completed. We encourage the Atlantic and Mississippi Flyway Councils to work cooperatively with the Service and Canada to develop and implement an international harvest strategy as soon as possible so that recommendations such as this may be evaluated in a broader context. In the absence of this strategy, significant changes in harvest regulations likely would complicate negotiations with Canada. Further, we are concerned that the proposed changes might increase harvest. We believe that the current level of harvest reduction on black ducks, achieved since the 1983 EA, must be maintained.

ii. Canvasbacks

Council Recommendations: The Atlantic Flyway Council recommended that the Canvasback Harvest Strategy be modified to allow for a limited canvasback hunting season of 20 days in the Atlantic and Mississippi Flyways, 25 days in the Central Flyway, and 39 days in the Pacific Flyway during the 2001-02 season, with a daily bag limit of one bird per day. States can select these days during any time period within their regular duck season.

The Mississippi and Pacific Flyway Councils recommended an open canvasback season with a 1-bird daily bag limit for the entire duck season in all four flyways for the 2001-02 season.

The Central Flyway Council recommended modifying the current strategy and recommended two options for individual State selections. First, allow a within-season closure for canvasbacks during the regular duck hunting season. Season length (daily bag of 1, either sex) would be determined by the AHM regulatory alternative when the harvest predicted by the canvasback model is less than the allowable harvest. For the 2001-2002 duck hunting season, the season length for canvasbacks would be 39 days in the Central Flyway, 30 days in the Atlantic and Mississippi Flyways, and 60 days in the Pacific Flyway. States would be allowed to select days during any time period of the regular duck hunting season within established criteria for zones and splits. Second, offer an aggregate daily bag of 1 canvasback or 1 redhead for the entire length of the duck hunting season.

Service Response: Since 1994, the Service has followed a canvasback harvest strategy such that, if population status and production are sufficient to permit a harvest of one canvasback per day nationwide for the entire length of the regular duck season, while attaining a spring population objective of 500,000 birds, the season on canvasbacks should be opened. Otherwise, the season on canvasbacks should be closed nationwide. This spring, the estimate of canvasback abundance was 580,000 birds and the number of ponds in Prairie Canada in May (2.7 million) was 20% below the long-term average. The size of the spring population, together with natural mortality and below-average expected production due to the relatively dry conditions, is insufficient to offset expected mortality associated with a canvasback season lasting the entire length of the “liberal” regulatory alternative and still attain the population objective of 500,000 canvasbacks in the spring of 2002.

We continue to support the harvest strategy and the model adopted in 1994. However, despite reduced numbers and below-average production forecast this year, we believe there is still some opportunity to allow a limited harvest this fall without compromising the population's ability to reach 500,000 canvasbacks next spring. Thus, we will allow a very restrictive, shortened canvasback season for 2001-02. In the Atlantic and Mississippi Flyways, the season length would be 20 days, in the Central Flyway, 25 days, and in the Pacific Flyway, 38 days. The days for this limited season must be used consecutively. Our objective is to provide some hunting opportunity while still maintaining the spring population above the 500,000 objective level. Over the next year, we are willing to discuss the possibility of revising the strategy. Any proposed changes should have broad-based support and reflect the interests of all stakeholders. However, we emphasize that discontent with the canvasback strategy this year is symptomatic of difficulties associated with the larger issue of multi-stock management in the existing AHM framework. For example, how should hunting seasons be designed to accommodate species' varying abilities to support harvest, when all species are subjected to a common sport harvest? We urge the Flyway Councils to begin internal discussions toward a strategic, long-term view regarding approaches to this and other critical harvest-management issues. Such discussions, complemented by ongoing work by the AHM working group, will be useful as we begin the development of a new Environmental Impact Statement for the sport hunting of migratory birds.

Due to the relative lateness of this development, the generally earlier opening of duck seasons in Alaska (September 1), and the very low anticipated level of harvest in Alaska, we have exempted Alaska from the shorter season length. However, we believe that Alaska should fully engage in any review of the harvest strategy and remain a part of the overall strategy for this species.

iii. Pintails

Council Recommendations: All four Flyway Councils recommended a daily bag limit of one pintail in the 2001-02 hunting season as prescribed by the Interim Pintail Harvest Strategy.

Service Response: We will continue use of the interim harvest strategy for a fifth year. Considering the current status of the population (3.3 million breeding birds) and the expected recruitment rate (1.01), the strategy prescribes a bag limit of 1 pintail for all Flyways under the “liberal” alternative. Further, we propose that the interim strategy be revised for future years by adjusting the equations used to predict pintail harvest to more accurately reflect realized harvest based on the experience gained during the past 4 years. The proposed method of adjustment, as well as a brief review of the first 4 years of interim strategy, will be provided to the Flyway Council Technical Sections for their review and comment. The interim strategy would be used until the development and adoption of a direct methodology for incorporation of pintails into the formal AHM process. We believe that such an action may be possible by the 2002-03 hunting season, but several issues remain to be resolved as described in this year's AHM report. Recognizing that some of these issues may not be resolved by next year, we believe that adjustment to the existing interim strategy is a prudent step, and intend to employ the interim strategy until formal incorporation of pintail harvest into the existing AHM process is accomplished.

iv. Scaup

Council Recommendations: The Atlantic, Mississippi, and Central Flyway Councils recommended a daily bag limit of three scaup for the 2001-02 hunting season. The Pacific Flyway Council recommended a daily bag limit of four scaup in the Pacific Flyway for the 2001-02 hunting season.

Service Response: In 1999, we restricted the scaup bag limit to three in the Atlantic, Mississippi, and Central Flyways and four in the Pacific Flyway. It is still too early to judge the effects of the harvest restriction with only 2 years' data. This year, we will continue use of the restrictions put in place 2 years ago, and note that last year, the lesser scaup immature/adult ratio, a measure of annual production, was the lowest on record. We remain concerned about scaup status and ask the Flyway Councils to continue to work with us to develop a strategy to guide scaup harvest management.

4. Canada Geese

Council Recommendations: The Atlantic Flyway Council made a number of recommendations regarding Canada geese. For Atlantic Population (AP) Canada geese, the Council recommended expansion of regular seasons to move toward a 10 percent harvest rate on adult AP geese over the 2001-2002 season. This would allow for a 30-day season with a 2-bird daily bag limit in AP areas of New York, New Jersey, Pennsylvania, and New England and for 30-day seasons with a 1-bird daily limit in AP areas of Maryland, Delaware, and Virginia except for Back Bay. The regular season would remain closed in Back Bay, Virginia, and the Northeast Hunt Unit in North Carolina. Recommended framework dates in New York, New Jersey, Pennsylvania, and New England would be the last Saturday in October to January 20; while in Maryland, Delaware and Virginia, they would be November 15 to January 20.

In North Carolina, the Council recommended allowing modification of the boundary of the Northeast Hunt Unit and that North Carolina be allowed to select a 50-day season with a 2-bird daily bag limit with framework dates of October 1 to December 31 in its Southern James Bay Population (SJBP) zone. In North Atlantic Population (NAP) hunt areas, the Council recommended a 45-day season with a 2-bird daily bag limit between October 1 and January 20.

For resident populations, the Council recommended allowing regular seasons designed to maximize harvest of Resident Population (RP) Canada geese in designated areas of the Flyway beginning in 2001. The Council defined designated areas as accounting for no more than 10 percent of migrant geese (AP, NAP, SJBP) band recoveries during 1950-1999 in any State, and collectively accounting for less than 5 percent of all Flyway recoveries of any migrant population. Regular seasons in designated RP harvest areas of Maryland, Pennsylvania, and Virginia would be 70 days between November 15 and February 15. In North Carolina, Massachusetts, and New York, the framework would be 70 days between the last Saturday in October and February 15. Daily bag limits would be 5 birds in all RP areas. These seasons would be in lieu of any special late seasons and subject to annual evaluation of band recovery and harvest data.

The Mississippi Flyway Council recommended a number of changes in season lengths, bag limits, zones, and quotas for Canada geese. All of these changes are based on current population status and management plans. The Council also recommended that Mississippi Valley Population (MVP) and SJBP harvest zones be established in Michigan.

Written Comments: In response to concerns expressed by the Service during the late season meetings regarding the proposal for a regular Resident Canada Goose season in portions of the Atlantic Flyway, the Atlantic Flyway Council prepared a revised proposal, dated August 30, 2001, for further consideration. Further, in a September 7, 2001, letter from the Council Chairman, they indicated that neither North Carolina nor Massachusetts qualified under the revised selection criteria, but that the Council continues to support implementation of the expanded season this year for those States that meet the proposed criteria (i.e., Maryland, New York, Pennsylvania, and Virginia).

The Maryland Department of Natural Resources, the New York Division of Fish, Wildlife, and Marine Resources (New York), and the Pennsylvania Game Commission (Pennsylvania) expressed disappointment in our decision not to allow new regular seasons specifically designed to maximize harvest of RP Canada geese in designated areas of the Atlantic Flyway beginning in 2001 and urged reconsideration of this proposal. Additionally, a sportsmen's group from New Jersey and several individuals from New York requested reconsideration of the Council's resident goose proposal.

Pennsylvania requested approval of a 45-day season with a 2-bird daily bag limit for AP areas in New York, New Jersey, Pennsylvania, and New England for the 2001-02 season, while New York requested an opening framework date of the last Saturday in October for their SJBP zone rather than November 1.

The Utah Environmental Congress expressed concern with the removal of Aleutian Canada goose restrictions in the Pacific Flyway.

Service Response: This spring, the estimated number of AP goose breeding pairs in northern Quebec increased by more than 50 percent overall from 93,200 to 147,000 pairs. In addition, production prospects this year appear to be very good and a larger fall flight is expected. In view of this strong recovery, we believe it is appropriate this year to increase harvests within the AP zones of the Atlantic Flyway. Thus, we concur with the Atlantic Flyway Council's recommendation and believe this expanded framework continues the responsible approach the Council has taken in previous years. Given past history, we encourage the States to closely monitor harvest rates in the next few years.

We also support the boundary modifications and framework date changes in North Carolina, the recommendation for NAP geese, and New York's requested SJBP framework change.

Regarding the Atlantic Flyway Council's recommendation for resident goose areas, we recognize the problems associated with an overabundance of resident Canada geese and appreciate the Atlantic Flyway Council's effort to develop a strategy to increase harvest pressure in areas where few migrant geese occur. Further, we appreciate the Council's effort to submit a revised proposal containing more specific criteria for selecting these areas and a strategy for evaluation and discontinuance if necessary. However, based on the criteria that these areas contain not more than 10 percent of the historic band recoveries of any migrant population, several States included in the August 30 revised proposal (Massachusetts, New York, and North Carolina) do not qualify. In addition, we believe that the number of band recoveries available for the Atlantic and North Atlantic Populations is too limited to be useful in delineating these largely migrant-free zones. Also, the Atlantic Population has not been hunted in its major wintering areas since 1995 and only on a very restrictive basis elsewhere since 1999. Although significant areas of the Flyway under SJBP harvest management appear to have few migrant band recoveries, we suggest that the available neck-collar database should be examined.

In view of all these factors, we believe that approval of this proposal at this time would be premature, and request that the Council continue to improve it. Further, while we recognize that the States of Massachusetts and North Carolina were dropped from consideration and New York's band recovery data were modified in the Council's September 7 letter, we do not support a piece meal approach to approval of this proposal this year. Rather, we believe the proposal should be reworked to improve the criteria. We fully support efforts to increase harvests of resident Canada geese in areas where migrant geese do not occur in any appreciable numbers. However, we also must ensure that our scale of management is commensurate with our monitoring capability to detect changes and inform future regulatory decisions.

We concur with the recommended changes in the Mississippi Flyway. Most of these changes are based on the current population status of geese and are consistent with current management plans.

Regarding Aleutian geese, we have acted based on the management plan was prepared by the Pacific Flyway in cooperation with the Aleutian Canada goose recovery team. The actions taken are consistent with this plan and monitoring continues as described in the management plan.

C. Special Late Seasons

Council Recommendations: The Mississippi Flyway Council recommended that the experimental late season in the Central Michigan Goose Management Unit be made operational.

Service Response: We concur with the recommended change.

6. Brant

Council Recommendations: The Pacific Flyway Council recommended allowing Washington's brant season to be split into two segments.

Service Response: We concur with the recommended change.

8. Swans

Council Recommendations: The Pacific Flyway Council recommended swan frameworks as outlined in the Service's 2001 EA “Proposals to establish operational/experimental general swan hunting seasons in the Pacific Flyway.”

Written Comments: The Trumpeter Swan Society (TSS) requested reconsideration of the recent decision regarding tundra and trumpeter swan hunting seasons and to close all areas south of the Idaho-Utah State border to the take of all trumpeter swans and further to close Bear River Migratory Bird Refuge to all swan hunting. The Biodiversity Legal Foundation (BLF), the Fund for Animals (FFA), the Humane Society of the United States (HSUS), and other interests, in a joint letter, offered specific comments on the proposed regulations for hunting swans in the Pacific Flyway. The Utah Environmental Congress wrote to express concerns regarding the proposal to continue swan hunts in the Pacific Flyway.

Service Response: The Service has authorized the take of a limited number of trumpeter swans in the previously existing tundra swan seasons in the Pacific Flyway (excluding Alaska) since the 1995-96 hunting season. The regulations establishing this limited take were first based on a 1995 EA (Bartonek et al. 1995) and Finding of No Significant Impact (FONSI). Last year, we issued a supplemental EA (Trost et al. 2000) and new FONSI. The supplemental EA reviewed the first 5 years of the experimental swan season and made modifications to the existing season in an attempt to reconcile potentially conflicting management strategies for tundra and trumpeter swans in the Pacific Flyway.

During the past year since the release of the supplemental EA, actions occurred that have contributed to the Service's revising and reissuing both a draft and final EA on this issue. First, the Service and cooperators (Canadian Wildlife Service, numerous States and Provinces, and private conservation groups) conducted a comprehensive survey of the number and distribution of breeding trumpeter swans throughout their known North American breeding range during the summer of 2000, providing new information on the status and population trends of trumpeter swans (Caithamer 2001). This new comprehensive survey information documents the continued increase of the three recognized Trumpeter swan populations in North America, both in numerical abundance and in geographic range since the last comprehensive survey in 1995. Second, we were challenged in a lawsuit directed at our decision last year to allow a limited take of trumpeter swans in the 2000-01 swan hunting season, and as part of settling that lawsuit, we agreed to re-initiate the NEPA process in 2001.

A swan season that also permitted the take of a limited number of trumpeter swans in the Pacific Flyway was instituted in 1995. Prior to that time, and beginning in 1962, a tundra swan-only season had been in effect. During the tundra swan seasons, it was known that some number of trumpeter swans were taken by swan hunters who mistook them for tundra swans. We looked at this very small take and concluded that any impact on trumpeter swan populations would be minor. Because of that conclusion, we decided to authorize a limited take incidental to the hunting of tundra swans. This limited take was authorized in an attempt to reconcile potentially conflicting strategies for managing two swan species in the Pacific Flyway. The potentially conflicting strategies are: (1) to enhance the winter range distribution of the less abundant RMP of trumpeter swans by severely restricting or eliminating swan hunting in portions of the Pacific Flyway currently open to hunting these species, and (2) to optimize hunting of the more numerous and widely distributed Western Population (WP) of tundra swans in the Pacific Flyway.

We issued a FONSI in August of 1995 and again in July of 2000 after assessing impacts in two previous EAs on this issue. The proposed actions in these EAs represented a balance between the two competing management strategies by establishing a general swan season in portions of Montana, Utah, and Nevada that allowed the taking of any species of swan (Cygnus sp.) subject to the following conditions:

(1) A limited quota on the take of trumpeter swans, which, upon being reached, would trigger the cessation of all swan hunting in the designated area,

(2) Modification of the already-limited take and restricted seasons on tundra swans to enhance the likelihood that trumpeter swans would be successful in expanding their winter range, and,

(3) The development and implementation of a program to monitor the effectiveness of this action.

Under the new action, identified in the 2001 EA (Trost et al. 2001), we would continue to establish a hunting season for tundra swans with an authorization of a small take of trumpeter swans in designated portions of Montana, Utah, and Nevada, within the Pacific Flyway. Constraints imposed upon swan hunting seasons implemented last year would be continued. Additionally, specific areas open to swan hunting in Montana, Utah, and Nevada would remain as defined in the 2000-01 regulations. Further, included is a new requirement for the development of a Memorandum of Agreement (MOA) between the State of Utah and the Service detailing monitoring, hunter training, and season closure procedures for the experimental swan hunt in Utah.

A notice of availability of the draft EA was published in the Federal Register on April 25, 2001 (66 FR 20828). In addition, the draft EA was posted on the Service's web page and mailed to all organizations and private individuals who requested copies. We carefully reviewed all public comments. The comments were considered in light of the analysis in the EA. The EA addressed all substantive comments received during the 30-day comment period. Copies of the EA and the Finding of No Significant Impact are available at the address indicated under the caption ADDRESSES or from our website at http://migratorybirds.fws.gov.

Additionally, although not directly related to the issue of hunting seasons, we have continued to provide a leadership role in attempting to enhance trumpeter swan status and breeding distribution within the Pacific Flyway through increased efforts directed at establishment of breeding trumpeter swans in suitable habitats throughout the Pacific Flyway. We have recently provided funding for production of cygnets for later reintroduction into suitable habitat. We also continue to support cooperative efforts to address the winter distribution issues by working with States, non-governmental organizations (NGO), and individual partners. We support limited winter capture and translocation on a case-by-case basis when circumstances develop that warrant such activity. We do not plan to employ winter translocations as the primary method to address the winter distribution problem of RMP trumpeter swans. Rather, translocation will be employed as a method to limit risk to swans from direct over-winter mortality, on an as-needed basis.

Continued progress toward development of the implementation plan (Bouffard et al. 2001) has occurred. We believe the actions outlined in the plan will help address concerns regarding the number of swans nesting in the Tristate area and help establish new winter distribution patterns. Evidence suggests current and past management activities have made progress toward improving the winter distribution situation (Bouffard 2000). We expect that further actions will continue to improve the status and distribution of RMP trumpeter swans. We will continue implementation efforts to the greatest extent possible.

We appreciate the continued support of the TSS in the development of a more comprehensive implementation plan to achieve the goals and objectives of the 1998 Pacific Flyway Management Plan for the RMP of trumpeter swans. We remain committed to the goals and objectives of this plan and will continue to work with all partners to achieve these objectives. We have carefully considered all the input received from the TSS and other concerned agencies, organizations, and individuals. In particular, we reconsidered the request to close all areas in Utah and Nevada to any legal take of trumpeter swans and to close the Bear River Refuge in Utah to all swan hunting. After a review of the situation, we continue to support the conclusions in our most recent EA regarding the need to implement the specific recommendations of the TSS (Trost et al. 2001: pages 31-32 and 41-45). We acknowledge a wide disparity of opinion regarding the potential impact of a limited take of trumpeter swans in Utah and Nevada on achieving the goals and objectives of the 1998 plan. However, we believe that the limited take allowed in these seasons will not adversely impact management intended to achieve these objectives and we conclude that the existing seasons should be maintained as described in the Final EA on this issue.

In response to the concerns expressed by BLF, FFA, and HSUS, the comments are largely the same as those addressed previously with regard to this issue over the past several years and are addressed in the current Environmental Assessment (EA) (Trost et al. 2001). We provide the following answers and also refer to the 2001 EA where these issues are also addressed:

(1) The letter raises concerns regarding the population status of trumpeter swans (i.e., “The precarious and, indeed, endangered status of the U.S. resident breeding population of trumpeter swans”). The 2001 EA (pgs 10-12, 27) discusses the number of trumpeter swans in the three recognized populations of trumpeter swans in North America and then describes the various components of the RMP, the group at issue with regard to swan seasons in Montana, Utah, and Nevada. In general, trumpeter swans in the United States have been increasing steadily during the past 30 plus years (Caithamer 2001). The general increase is also true of the RMP, and although trends in the various geographic components recognized in this population have not been consistent, all but the Nevada and Oregon restoration groups have shown increases during the experimental harvest period. This section also details the status of the petition to list a segment of the RMP as a distinct population segment under the Endangered Species Act. Based on these population estimates, we do not agree with the contention that the U.S. breeding population trumpeter swans is “precarious, and indeed endangered”. Whether or not there is merit to the contention that those trumpeter swans breeding in the Tristate area require protection under the Endangered Species Act as a distinct population segment is currently awaiting evaluation.

(2) The letter also questions the potential impacts of drought conditions on trumpeter swans. We recognize that severe drought conditions currently prevail in the Tristate primary wintering area of the RMP of trumpeter swans. Similar conditions existed last year and similar concerns were also offered last year by the same groups in response to our proposal for the swan season in the Pacific Flyway. Our response of last year is still applicable: “With regard to the current drought situation in the West, we recognize once more that waterfowl distributions and migratory behavior are often impacted by weather events. Migratory birds are among the most resilient group of animals in their ability to react to such changing conditions. We see no imminent threat in this year's situation that would lead us to view this situation as more serious than in previous years. The controls put in place on the seasons will result in season closure if 10 trumpeter swans are harvested in Utah. Should weather events result in an unexpected mass movement of trumpeter swans into the open hunt area, we believe the 10 bird closure limit will ensure that no harm will be suffered by the population as a whole” Federal Register, 65 FR 58158). This aspect is also addressed on pages 12-13 of the 2001 EA.

(3) The letter contends that restoration requires safe and secure habitat along traditional migration routes. In addition, the letter suggests that human activities beyond swan hunting must be terminated or severely restricted to provide safe and secure habitats to promote trumpeter swan migration from the Tristate region. There are a number of complex issues contained in these statements that we address as follows:

(3.a.) This comment implies that the commenter believes that the Service is obligated to restore migratory birds to all former habitats. Neither the conventions nor the MBTA impose a requirement that the Service (1) actively manage distributions of migratory birds or, (2) restore migratory birds to all former habitats. The MBTA authorizes and directs the Secretary to determine whether and to what extent to allow hunting, taking, etc., of migratory birds. This is to be done subject to the conventions and having due regard for the zones of temperature and distribution, abundance, economic value, breeding habitats and times and lines of flight of migratory birds. This having been said, we have cooperated in attempts to restore many species and will continue to do so acknowledging that there is authority to conduct such activities, where appropriate. We wish to make clear, however, that there is a fundamental difference between a management objective for a species and a statutory requirement for restoration. The letter also refers to “traditional migratory routes”. We note the discussion of this question in the 2001 EA (pages 29-32). In brief, we do not feel that traditional migratory routes are well known and requests for actions at specific locations are without strong biological foundation.

(3.b) The letter further contends that safe and secure habitats are not presently available to dispersing trumpeter swans. We note that the vast majority of both Utah and Nevada have been closed to all swan hunting (in Utah beginning with the 1995 EA), and that significant portions of the available swan habitat in each State are included in these closed areas. Further, portions of the available habitat on National Wildlife Refuges are closed to all waterfowl hunting. We do not agree that all swan hunting must be prohibited in order to provide safe and secure habitats for dispersing trumpeter swans. The contention that we should prohibit other human activities (power boating, fishing, etc.) is well beyond the purpose and intent of the rule to establish a swan hunting season. We do not have such authority under the MBTA and would note that migratory behavior and tradition are maintained in waterfowl throughout North America without such regulatory prohibitions, and we are aware of no scientific evidence to support the contention that such an action would be an effective method to alter wintering or migrational waterfowl distributions. Pages 29-32 of the 2001 EA also address this comment.

(4) The letter further contends that the monitoring of the harvest is inadequate. We do not agree, as we have routinely provided reliable estimates of both annual harvest and wounding loss from every year that we have conducted these hunts (Trost et al. 2001). In addition, with regard to the reliability of monitoring methods, we have discussed the considerations, both of non-response bias and wounding loss extrapolation in several previous documents (i.e., 2001 EA pgs 33-35). However, in recognition of the concerns expressed regarding this issue, we have entered into a Memorandum of Agreement with the State of Utah detailing all specific requirements for harvest monitoring for the experimental season in Utah. We also note the EA's assessment of the potential impacts of harvest in Nevada and Montana (2001 EA pgs 41-45). We concluded that the harvest monitoring occurring in these two States is adequate and not a major consideration in winter distribution questions raised by those opposed to continuation of the swan hunts in Montana, Utah, and Nevada. We have not ignored this issue, but, on the contrary, the regulations account for the fact that the two swan species are not readily distinguishable and establishes a cessation of all swan hunting, including for tundra swans, when 5 or 10 trumpeter swans (respectively, in Nevada and Utah) are killed. We selected such low numbers to allow for and address the concerns about monitoring, although we believe the monitoring system to be very reliable.

(5) Finally, the letter included as an attachment an anonymous report circulated by an organization Public Employees for Environmental Responsibility (PEER) entitled “Swan Dive”. At this juncture, we note that this anonymous report makes unsubstantiated allegations about decisions we have made and we strongly disagree with them. In addition, the report contains numerous factual errors and omissions such that its content is of little value to the decision process with regard to swan hunting regulations in the Pacific Flyway.

In conclusion, we have assessed the information available and conclude that the preferred alternative will not adversely impact trumpeter or tundra swans in the Pacific Flyway. The relatively small number of trumpeter swans that we expect to be harvested by this action will not pose a risk to either the RMP as a whole, or any segment of this population that has been identified by others. We recognize that there are many challenges still present in developing and implementing a broad-scale management program for trumpeter swans in the Pacific Flyway and we will continue to work with interests to ensure the continued growth of this population. We are committed to meeting the goals and objectives of the 1998 Pacific Flyway Management Plan for this population of trumpeter swans, including all of the Regional and State-specific objectives. We are strongly committed to maintaining and enhancing trumpeter swan numbers throughout the Tristate region, including those associated with Yellowstone National Park, and should new evidence become available that suggests that efforts to maintain and enhance these trumpeter swans are being jeopardized by existing hunting seasons, we will modify or suspend these seasons to ensure no adverse impacts are manifested. We believe the existing evidence does not support the contention that these existing seasons are currently having a significant impact with regard to protecting and conserving trumpeter swan populations. In addition, we believe the active program proposed for direct augmentation of the Code Tristate Area nesting trumpeter swans will offset any potential negative impacts caused by adopting the preferred alternative.

NEPA Consideration

NEPA considerations are covered by the programmatic document, “Final Supplemental Environmental Impact Statement: Issuance of Annual Regulations Permitting the Sport Hunting of Migratory Birds (FSES 88-14),” filed with the Environmental Protection Agency on June 9, 1988. We publish a Notice of Availability in the Federal Register on June 16, 1988 (53 FR 22582). We published our Record of Decision on August 18, 1988 (53 FR 31341). Copies are available from the address indicated under the caption ADDRESSES. Additionally, issues pertaining to swan hunting in the Pacific Flyway were covered under a separate NEPA document, “Swan Hunting in the Pacific Flyway,” issued June 14, 2001, with a Finding of No Significant Impact issued June 14, 2001. Copies are available from the address indicated under the caption addresses.

Endangered Species Act Consideration

Section 7 of the Endangered Species Act, as amended (16 U.S.C. 1531-1543; 87 Stat. 884), provides that, “The Secretary shall review other programs administered by him and utilize such programs in furtherance of the purposes of this Act” (and) shall “insure that any action authorized funded or carried out * * * is not likely to jeopardize the continued existence of any endangered species or threatened species or result in the destruction or adverse modification of [critical] habitat * * *” Consequently, we conducted formal consultations to ensure that action resulting from these regulations would not likely jeopardize the continued existence of endangered or threatened species or result in the destruction or adverse modification of their critical habitat. Findings from these consultations are included in a biological opinion and concluded that the regulations are not likely to adversely affect any endangered or threatened species. Additionally, these findings may have caused modification of some regulatory measures previously proposed and the final frameworks reflect any such modifications. Our biological opinions resulting from this Section 7 consultation are public documents available for public inspection at the address indicated under the caption addresses.

Executive Order (E.O.) 12866

This rule was reviewed by the Office of Management and Budget (OMB). The migratory bird hunting regulations are economically significant and are annually reviewed by OMB under E.O. 12866. As such, a cost/benefit analysis was prepared in 1998 and is further discussed below under the heading Regulatory Flexibility Act. Copies of the cost/benefit analysis are available upon request from the address indicated under the caption ADDRESSES.

Regulatory Flexibility Act

These regulations have a significant economic impact on substantial numbers of small entities under the Regulatory Flexibility Act (5 U.S.C. 601 et seq.). We analyzed the economic impacts of the annual hunting regulations on small business entities in detail and issued a Small Entity Flexibility Analysis (Analysis) in 1998. The Analysis documented the significant beneficial economic effect on a substantial number of small entities. The primary source of information about hunter expenditures for migratory game bird hunting is a National Hunting and Fishing Survey, which is conducted at 5-year intervals. The analysis was based on the 1996 National Hunting and Fishing Survey and the U.S. Department of Commerce's County Business Patterns, from which it was estimated that migratory bird hunters would spend between $429 million and $1,084 million at small businesses. The Analysis is available upon request from the address indicated under the caption ADDRESSES.

Small Business Regulatory Enforcement Fairness Act

This rule is a major rule under 5 U.S.C. 804(2), the Small Business Regulatory Enforcement Fairness Act. For the reasons outlined above, this rule has an annual effect on the economy of $100 million or more. However, because this rule establishes hunting seasons, we plan to make the rule effective immediately under the exemption contained in 5 U.S.C. 808(1).

Paperwork Reduction Act

We examined these regulations under the Paperwork Reduction Act of 1995. We utilize the various recordkeeping and reporting requirements imposed under regulations established in 50 CFR part 20, Subpart K, in the formulation of migratory game bird hunting regulations. Specifically, OMB has approved the information collection requirements of the Migratory Bird Harvest Information Program and assigned control number 1018-0015 (expires 9/30/2001). This information is used to provide a sampling frame for voluntary national surveys to improve our harvest estimates for all migratory game birds in order to better manage these populations. A Federal agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not “significantly or uniquely” affect small governments, and will not produce a Federal mandate of $100 million or more in any given year on local or State government or private entities. Therefore, this rule is not a “significant regulatory action” under the Unfunded Mandates Reform Act.

Civil Justice Reform—Executive Order 12988

The Department, in promulgating this rule, has determined that this rule will not unduly burden the judicial system and meets the requirements of sections 3(a) and 3(b)(2) of E.O. 12988.

Energy Effects—E.O. 13211

On May 18, 2001, the President issued E.O. 13211 on regulations that significantly affect energy supply, distribution, and use. E.O. 13211 requires agencies to prepare Statements of Energy Effects when undertaking certain actions. While this rule is a significant regulatory action under E.O. 12866, it is not expected to adversely affect energy supplies, distribution, or use. Therefore, this action is not a significant energy action and no Statement of Energy Effects is required.

Takings Implication Assessment

In accordance with E.O. 12630, this rule, authorized by the Migratory Bird Treaty Act, does not have significant takings implications and does not affect any constitutionally protected property rights. This rule will not result in the physical occupancy of property, the physical invasion of property, or the regulatory taking of any property. In fact, this rule will allow hunters to exercise otherwise unavailable privileges, and, therefore, reduces restrictions on the use of private and public property.

Federalism Effects

Due to the migratory nature of certain species of birds, the Federal Government has been given responsibility over these species by the Migratory Bird Treaty Act. We annually prescribe frameworks from which the States make selections and employ guidelines to establish special regulations on Federal Indian reservations and ceded lands. This process preserves the ability of the States and Tribes to determine which seasons meet their individual needs. Any State or Tribe may be more restrictive than the Federal frameworks at any time. The frameworks are developed in a cooperative process with the States and the Flyaway Councils. This process allows States to participate in the development of frameworks from which they will make selections, thereby having an influence on their own regulations. These rules do not have a substantial direct effect on fiscal capacity, change the rules or responsibilities of Federal or State governments, or intrude on State policy or administration. Therefore, in accordance with E.O. 13132, these regulations do not have significant federalism effects and do not have sufficient federalism implications to warrant the preparation of a Federalism Assessment.

Regulations Promulgation

The rulemaking process for migratory game bird hunting must, by its nature, operate under severe time constraints. However, we intend that the public be given the greatest possible opportunity to comment. Thus, when the preliminary proposed rulemaking was published, we established what we believed were the longest periods possible for public comment. In doing this, we recognized that when the comment period closed, time would be of the essence. That is, if there were a delay in the effective date of these regulations after this final rulemaking, States would have insufficient time to select season dates and limits; to communicate those selections to us; and to establish and publicize the necessary regulations and procedures to implement their decisions. We, therefore, find that “good cause” exists, within the terms of 5 U.S.C. 553(d)(3) of the Administrative Procedure Act, and these frameworks will take effect immediately upon publication.

Therefore, under authority of the Migratory Bird Treaty Act (July 3, 1918), as amended, (16 U.S.C. 703-711), we prescribe final frameworks setting forth the species to be hunted, the daily bag and possession limits, the shooting hours, the season lengths, the earliest opening and latest closing season dates, and hunting areas, from which State conservation agency officials will select hunting season dates and other options. Upon receipt of season and option selections from these officials, we will publish in the Federal Register a final rulemaking amending 50 CFR part 20 to reflect seasons, limits, and shooting hours for the conterminous United States for the 2001-02 season.

List of Subjects in 50 CFR Part 20

Exports, Hunting, Imports, Reporting and recordkeeping requirements, Transportation, Wildlife.

The rules that eventually will be promulgated for the 2001-02 hunting season are authorized under 16 U.S.C. 703-712 and 16 U.S.C. 742 a-j, Pub. L. 106-108.

Dated: September 19, 2001.
Joseph E. Doddridge,
Acting Assistant Secretary for Fish and Wildlife and Parks.

Final Regulations Frameworks for 2001-02 Late Hunting Seasons on Certain Migratory Game Birds

Pursuant to the Migratory Bird Treaty Act and delegated authorities, the Department has approved the following frameworks for season lengths, shooting hours, bag and possession limits, and outside dates within which States may select seasons for hunting waterfowl and coots between the dates of September 1, 2001, and March 10, 2002.

General

Dates: All outside dates noted below are inclusive.

Shooting and Hawking (taking by falconry) Hours: Unless otherwise specified, from one-half hour before sunrise to sunset daily.

Possession Limits: Unless otherwise specified possession limits are twice the daily bag limit.

Flyways and Management Units

Waterfowl Flyways

Atlantic Flyway—includes Connecticut, Delaware, Florida, Georgia, Maine, Maryland, Massachusetts, New Hampshire, New Jersey, New York, North Caroline, Pennsylvania, Rhode Island, South Caroline, Vermont, Virginia, and West Virginia.

Mississippi Flyway—includes Alabama, Arkansas, Illinois, Indiana, Iowa, Kentucky, Louisiana, Michigan, Minnesota, Mississippi, Missouri, Ohio, Tennessee, and Wisconsin.

Central Flyway—includes Colorado (east of the Continental Divide), Kansas, Montana (Counties of Blaine, Carbon, Fergus, Judith Basin, Stillwater, Sweetgrass, Wheatland, and all counties east thereof), Nebraska, New Mexico (east of the Continental Divide except the Jicarilla Apache Indian Reservation), North Dakota, Oklahoma, South Dakota, Texas, and Wyoming (east of the Continental Divide).

Pacific Flyway—includes Alaska, Arizona, California, Idaho, Nevada, Oregon, Utah, Washington, and those portions of Colorado, Montana, New Mexico, and Wyoming not included in the Central Flyway.

Management Units

High Plains Mallard Management Unit—roughly defined as that portion of the Central Flyway which lies west of the 100th meridian.

Definitions: For the purpose of hunting regulations listed below, the collective terms “dark” and “light” geese include the following species:

Dark geese—Canada geese, white-fronted geese, brant, and all other goose species except light geese.

Light geese—snow (including blue) geese and Ross' geese.

Area, Zone, and Unit Descriptions: Geographic descriptions related to the late-season regulations are contained in a later portion of this document.

Area-Specific Provisions: Frameworks for open seasons, season lengths, bag and possession limits, and other special provisions are listed below by Flyway.

Compensatory Days in the Atlantic Flyway: In the Atlantic Flyway States of Connecticut, Delaware, Maine, Maryland, Massachusetts, New Jersey, North Carolina, Pennsylvania, and Virginia, where Sunday hunting is prohibited statewide by State law, all Sundays are closed to all take of migratory waterfowl (including mergansers and coots).

Atlantic Flyway

Ducks, Mergansers, and Coots

Outside Dates: Between October 1 and January 20.

Hunting Seasons and Duck Limits: 60 days, except canvasbacks which may not exceed 20 consecutive days, and daily bag limit of 6 ducks, including no more than 4 mallards (2 hens), 3 scaup, 1 black duck, 1 pintail, 1 mottled duck, 1 fulvous whistling duck, 2 wood ducks, 2 redheads, 1 canvasback and 4 scoters.

Closure: The season on harlequin ducks is closed.

Sea Ducks: Within the special sea duck areas, during the regular duck season in the Atlantic Flyway, States may choose to allow the above sea duck limits in addition to the limits applying to other ducks during the regular duck season. In all other areas, sea ducks may be taken only during the regular open season for ducks and are part of the regular duck season daily bag (not to exceed 4 scoters) and possession limits.

Merganser Limits: The daily bag limit of mergansers is 5, only 1 of which may be a hooded merganser.

Coot Limits: The daily bag limit is 15 coots.

Lake Champlain Zone, New York: The waterfowl season, limits, and shooting hours shall be the same as those selected for the Lake Champlain Zone of Vermont.

Connecticut River Zone, Vermont: The waterfowl seasons, limits, and shooting hours shall be the same as those selected for the Inland Zone of New Hampshire.

Zoning and Split Seasons: Delaware, Florida, Georgia, Maryland, North Carolina, Rhode Island, South Carolina, and Virginia may split their seasons into three segments; Connecticut, Maine, Massachusetts, New Hampshire, New Jersey, New York, Pennsylvania, Vermont, and West Virginia may select hunting seasons by zones and may split their seasons into two segments in each zone.

Canada Geese

Season Lengths, Outside Dates, and Limits: Specific regulations for Canada geese are shown below by State. Unless specified otherwise, seasons may be split into two segments. In areas within States where the framework closing date for Atlantic Population (AP) goose seasons overlaps with special late season frameworks for resident geese, the framework closing date for AP goose season is January 14.

Connecticut

North Atlantic Population (NAP) Zone: A 45-day season may be held between October 1 and January 20 with a 2-bird daily bag limit.

Atlantic Population (AP) Zone: A 30-day season may be held between last Saturday in October (October 27) and January 20 with a 2-bird daily bag limit.

South Zone: A special experimental season may be held between January 15 and February 15, with a 5-bird daily bag limit.

Delaware

A 30-day season may be held between November 15 and January 20 with a 1-bird daily bag limit.

Florida

A 70-day season may be held between November 15 and February 15, with a 5-bird daily bag limit.

Georgia

In specific areas, a 70-day season may be held between November 15 and February 15, with a 5-bird daily bag limit.

Maine

A 45-day season may be held Statewide between October 1 and January 20 with a 2-bird daily bag limit.

Maryland

Southern James Bay Population (SJBP) Zone: A 40-day season may be held between November 15 and January 14, with a 2-bird daily bag limit. The season may be split 3-ways. Additionally, an experimental season may be held from January 15 to February 15, with a 5-bird daily bag limit.

AP Zone: A 30-day season may be held between November 15 and January 20 with a 1-bird daily bag limit.

Massachusetts

NAP Zone: A 45-day season may be held between October 1 and January 20 with a 2-bird daily bag limit. Additionally, a special season may be held from January 15 to February 15, with a 5-bird daily bag limit.

AP Zone: A 30-day season may be held between last Saturday in October (October 27) and January 20 with a 2-bird daily bag limit.

New Hampshire

A 45-day season may be held statewide between October 1 and January 20 with a 2-bird daily bag limit.

New Jersey

Statewide: A 30-day season may be held between last Saturday in October (October 27) and January 20 with a 2-bird daily bag limit.

Special Late Goose Season Area: An experimental season may be held in designated areas of North and South New Jersey from January 15 to February 15, with a 5-bird daily bag limit.

New York

SJBP Zone: A 70-day season may be held between the last Saturday in October (October 27) and January 30, with a 2-bird daily bag limit.

NAP Zone: A 45-day season may be held between October 1 and January 20 with a 2-bird daily bag limit.

Special Late Goose Season Area: An experimental season may be held between January 15 and February 15, with a 5-bird daily bag limit in designated areas of Chemung, Delaware, Tioga, Broome, Sullivan, Westchester, Nassau, Suffolk, Orange, Dutchess, Putnam, and Rockland Counties.

AP Zone: A 30-day season may be held between the last Saturday in October (October 27) and January 20 with a 2-bird daily bag limit.

North Carolina

A 50-day season may be held between October 1 and December 31, with a 2-bird daily bag limit, except for the Northeast Hunt Unit and Northampton County, which is closed.

Pennsylvania

SJBP Zone: A 40-day season may be held between November 15 and January 14, with a 2-bird daily bag limit.

AP Zone: A 30-day season may be held between last Saturday in October (October 27) and January 20 with a 2-bird daily bag limit.

Special Late Goose Season Area: An experimental season may be held from January 15 to February 15 with a 5-bird daily bag limit.

Pymatuning Zone: A 35-day season may be held between October 1 and January 20, with a 1-bird daily bag limit.

Rhode Island

A 45-day season may be held between October 1 and January 20 with a 2-bird daily bag limit. An experimental season may be held in designated areas from January 15 to February 15, with a 5-bird daily bag limit.

South Carolina

In designated areas, a 70-day season may be held during November 15 to February 15, with a 5-bird daily bag limit.

Vermont

A 30-day season may be held between last Saturday in October (October 27) and January 20 with a 2-bird daily bag limit.

Virginia

SJBP Zone: A 40-day season may be held between November 15 and January 14, with a 2-bird daily bag limit. Additionally, an experimental season may be held between January 15 and February 15, with a 5-bird daily bag limit.

AP Zone: A 30-day season may be held between November 15 and January 20 with a 1-bird daily bag limit.

Back Bay Area: Season is closed.

West Virginia

A 70-day season may be held between October 1 and January 31, with a 3-bird daily bag limit.

Light Geese

Season Lengths, Outside Dates, and Limits: States may select a 107-day season between October 1 and March 10, with a 15-bird daily bag limit and no possession limit. States may split their seasons into three segments, except in Delaware and Maryland, where, following the completion of their duck season, and until March 10, Delaware and Maryland may split the remaining portion of the season to hunt on Mondays, Wednesdays, Fridays, and Saturdays only.

Brant

Season Lengths, Outside Dates, and Limits: States may select a 50-day season between October 1 and January 20, with a 2-bird daily bag limit. States may split their seasons into two segments.

Mississippi Flyway

Ducks, Mergansers, and Coots

Outside Dates: Between the Saturday nearest October 1 (September 29) and the Sunday nearest January 20 (January 20). Seasons in Alabama, Mississippi, and Tennessee may extend to January 31.

Hunting Seasons and Duck Limits: 60 days (51 days in Alabama, Mississippi, and Tennessee), except that the season for canvasbacks may not exceed 20 consecutive days. The daily bag limit is 6 ducks, including no more than 4 mallards (no more than 2 of which may be females), 3 mottled ducks, 3 scaup, 1 black duck, 1 pintail, 2 wood ducks, 1 canvasback, and 2 redheads.

Merganser Limits: The daily bag limit is 5, only 1 of which may be a hooded merganser. In States that include mergansers in the duck bag limit, the daily limit is the same as the duck bag limit, only one of which may be a hooded merganser.

Coot Limits: The daily bag limit is 15 coots.

Zoning and Split Seasons: Alabama, Illinois, Indiana, Iowa, Kentucky, Louisiana, Michigan, Missouri, Ohio, Tennessee, and Wisconsin may select hunting seasons by zones.

In Alabama, Indiana, Iowa, Kentucky, Louisiana, Michigan, Ohio, Tennessee, and Wisconsin, the season may be split into two segments in each zone.

In Arkansas, Minnesota, and Mississippi, the season may be split into three segments.

Geese

Split Seasons: Seasons for geese may be split into three segments. Three-way split seasons for Canada geese require Mississippi Flyway Council and U.S. Fish and Wildlife Service approval and a 3-year evaluation by each participating State.

Season Lengths, Outside Dates, and Limits: States may select seasons for light geese not to exceed 107 days with 20 geese daily between the Saturday nearest October 1 (September 29) and March 10; for white-fronted geese not to exceed 86 days with 2 geese daily or 107 days with 1 goose daily between the Saturday nearest October 1 (September 29) and the Sunday nearest February 15 (February 17); and for brant not to exceed 70 days with 2 brant daily or 107 days with 1 brant daily between the Saturday nearest October 1 (September 29) and January 31. There is no possession limit for light geese. Specific regulations for Canada geese and exceptions to the above general provisions are shown below by State. Except as noted below, the outside dates for Canada geese are the Saturday nearest October 1 (September 29) and January 31.

Alabama

In the Southern James Bay Population (SJBP) Goose Zone, the season for Canada geese may not exceed 50 days. Elsewhere, the season for Canada geese may extend for 70 days in the respective duck-hunting zones. The daily bag limit is 2 Canada geese.

Arkansas

The season for Canada geese may extend for 23 days. The season may extend to February 15. The daily bag limit is 2 Canada geese.

Illinois

The total harvest of Canada geese in the State will be limited to 54,800 birds. The possession limit is 10 Canada geese.

(a) North Zone—The season for Canada geese will close after 70 days or when 7,250 birds have been harvested in the Northern Illinois Quota Zone, whichever occurs first. The daily bag limit is 2 Canada geese.

(b) Central Zone—The season for Canada geese will close after 70 days or when 9,250 birds have been harvested in the Central Illinois Quota Zone, whichever occurs first. The daily bag limit is 2 Canada geese.

(c) South Zone—The harvest of Canada geese in the Southern Illinois and Rend Lake Quota Zones will be limited to 16,550 and 2,100 birds, respectively. The season for Canada geese in each zone will close after 70 days or when the harvest limit has been reached, whichever occurs first. The daily bag limit is 2 Canada geese. In the Southern Illinois Quota Zone, if any of the following conditions exist after December 20, the State, after consultation with the Service, will close the season by emergency order with 48 hours notice:

(1) Average body weights of adult female geese less than 3,200 grams as measured from a weekly sample of a minimum of 50 geese.

(2) Starvation or a major disease outbreak resulting in observed mortality exceeding 5,000 birds in 10 days, or a total mortality exceeding 10,000 birds.

In the remainder of the South Zone, the season may extend for 70 days or until both the Southern Illinois and Rend Lake Quota Zones have been closed, whichever occurs first. The daily bag limit is 2 Canada geese.

Indiana

The total harvest of Canada geese in the State will be limited to 19,200 birds. The daily bag limit is 2 Canada geese.

(a) North zone: The season for Canada geese may extend for 50 days.

(b) SJBP Zone—The season for Canada geese may extend for 50 days.

(c) South Zone—The season for Canada geese may extend for 56 days.

(d) Ohio River Zone

(1) Posey County—The season for Canada geese will close after 56 days or when the Canada goose harvest at Hovey Lake Fish and Wildlife Area exceeds 960 birds, whichever occurs first.

(2) Remainder of the Ohio River Zone—The season may extend for 56 days.

Iowa

The season may extend for 70 days. The daily bag limit is 2 Canada geese.

Kentucky

(a) Western Zone—The season for Canada geese may extend for 50 days (65 days in Fulton County), and the harvest will be limited to 11,520 birds. Of the 11,520-bird quota, 7,490 birds will be allocated to the Ballard Reporting Area and 2,880 birds will be allocated to the Henderson/Union Reporting Area. If the quota in either reporting area is reached prior to completion of the 50-day season, the season in that reporting area will be closed. If the quotas in both the Ballard and Henderson/Union reporting areas are reached prior to completion of the 50-day season, the season in the counties and portions of counties that comprise the Western Goose Zone (listed in State regulations) may continue for an additional 7 days, not to exceed a total of 50 days (65 days in Fulton County). The season in Fulton County may extend to February 15. The daily bag limit is 2 Canada geese.

(b) Pennyroyal/Coalfield Zone—The season may extend for 50 days. The daily bag limit is 2 Canada geese.

(c) Remainder of the State—The season may extend for 50 days. The daily bag limit is 2 Canada geese.

Louisiana

The season for Canada geese may extend for 9 days. During the season, the daily bag limit is 1 Canada goose and 2 white-fronted geese with an 86-day white-fronted goose season or 1 white-fronted goose with a 107-day season. Hunters participating in the Canada goose season must possess a special permit issued by the State.

Michigan

(a) MVP Zone—The total harvest of Canada geese will be limited to 30,950 birds. The framework opening date for all geese is September 16 and the season for Canada geese may extend for 17 days. The daily bag limit is 2 Canada geese.

(1) Allegan County GMU—The Canada goose season will close after 25 days or when 1,100 birds have been harvested, whichever occurs first. The daily bag limit is 1 Canada goose.

(2) Muskegon Wastewater GMU—The Canada goose season will close after 25 days or when 350 birds have been harvested, whichever occurs first. The daily bag limit is 2 Canada geese.

(b) SJBP Zone—The framework opening date for all geese is September 16 and the season for Canada geese may extend for 30 days. The daily bag limit is 2 Canada geese.

(1) Saginaw County GMU—The Canada goose season will close after 50 days or when 2,000 birds have been harvested, whichever occurs first. The daily bag limit is 1 Canada goose.

(2) Tuscola/Huron GMU—The Canada goose season will close after 50 days or when 750 birds have been harvested, whichever occurs first. The daily bag limit is 1 Canada goose.

(c) Southern Michigan GMU—A special Canada goose season may be held between January 5 and February 3. The daily bag limit is 5 Canada geese.

(d) Central Michigan GMU—A special Canada goose season may be held between January 5 and February 3. The daily bag limit is 5 Canada geese.

Minnesota

(a) West Zone

(1) West Central Zone—The season for Canada geese may extend for 40 days. In the Lac Qui Parle Zone, the season will close after 40 days or when 12,000 birds have been harvested, whichever occurs first. Throughout the West Central Zone, the daily bag limit is 1 Canada goose.

(2) Remainder of West Zone—The season for Canada geese may extend for 40 days. The daily bag limit is 1 Canada goose.

(b) Northwest Zone—The season for Canada geese may extend for 40 days. The daily bag limit is 1 Canada goose.

(c) Remainder of the State—The season for Canada geese may extend for 70 days. The daily bag limit is 2 Canada geese.

(d) Special Late Canada Goose Season—An experimental special Canada goose season of up to 10 days may be held in December, except in the West Central and Lac qui Parle Goose zones. During the special season, the daily bag limit is 5 Canada geese, except in the Southeast Goose Zone, where the daily bag limit is 2.

Mississippi

The season for Canada geese may extend for 70 days. The daily bag limit is 3 Canada geese.

Missouri

(a) Swan Lake Zone—The season for Canada geese may extend for 70 days, with no more than 30 days occurring after November 30. The season may be split into 3 segments. The daily bag limit is 2 Canada geese.

(b) Southeast Zone—The season for Canada geese may extend for 70 days. The season may be split into 3 segments, provided that at least 1 segment occurs prior to December 1. The daily bag limit is 3 Canada geese through October 31, and 2 Canada geese thereafter.

(c) Remainder of the State—

(1) North Zone—The season for Canada geese may extend for 70 days, with no more than 30 days occurring after November 30. The season may be split into 3 segments, provided that 1 segment of at least 9 days occurs prior to October 15. The daily bag limit is 3 Canada geese through October 31, and 2 Canada geese thereafter.

(2) Middle Zone—The season for Canada geese may extend for 70 days, with no more than 30 days occurring after November 30. The season may be split into 3 segments, provided that 1 segment of at least 9 days occurs prior to October 15. The daily bag limit is 3 Canada geese through October 31, and 2 Canada geese thereafter.

(3) South Zone—The season for Canada geese may extend for 70 days. The season may be split into 3 segments, provided that at least 1 segment occurs prior to December 1. The daily bag limit is 3 Canada geese through October 31, and 2 Canada geese thereafter.

Ohio

The season for Canada geese may extend for 70 days in the respective duck-hunting zones, with a daily bag limit of 2 Canada geese, except in the Lake Erie SJBP Zone, where the season may not exceed 35 days and the daily bag limit is 1 Canada goose. A special experimental Canada goose season of up to 22 days, beginning the first Saturday after January 10, may be held in selected areas of the State. During the special season, the daily bag limit is 2 Canada geese.

Tennessee

(a) Northwest Zone—The season for Canada geese will close after 65 days or when 4,300 birds have been harvested, whichever occurs first. The season may extend to February 15. A 3,000-bird harvest quota will be monitored in the Reelfoot Quota Zone. The remaining 1,300 quota will be assigned to the area outside the Reelfoot Zone. If the quota in the Reelfoot Quota Zone is reached prior to completion of the 65-day season, the season in the entire Northwest Zone will close. The daily bag limit is 2 Canada geese.

(b) Southwest Zone—The season for Canada geese may extend for 50 days, and the harvest will be limited to 500 birds. The daily bag limit is 2 Canada geese.

(c) Kentucky/Barkley Lakes Zone—The season for Canada geese may extend for 50 days. The daily bag limit is 2 Canada geese.

(d) Remainder of the State—The season for Canada geese may extend for 70 days. The daily bag limit is 2 Canada geese.

Wisconsin

The total harvest of Canada geese in the State will be limited to 46,000 birds.

(a) Horicon Zone—The framework opening date for all geese is September 17. The harvest of Canada geese is limited to 16,900 birds. The season may not exceed 94 days. All Canada geese harvested must be tagged. The daily bag limit is 1 Canada goose, and the season limit will be the number of tags issued to each permittee.

(b) Collins Zone—The framework opening date for all geese is September 17. The harvest of Canada geese is limited to 600 birds. The season may not exceed 68 days. All Canada geese harvested must be tagged. The daily bag limit is 1 Canada goose, and the season limit will be the number of tags issued to each permittee.

(c) Exterior Zone—The framework opening date for all geese is September 22. The harvest of Canada geese is limited to 24,000 birds, with 500 birds allocated to the Mississippi River Subzone. The season may not exceed 70 days, except in the Mississippi River Subzone, where the season may not exceed 80 days. The daily bag limit is 1 Canada goose. In that portion of the Exterior Zone outside the Mississippi River Subzone, the progress of the harvest must be monitored, and the season closed, if necessary, to ensure that the harvest does not exceed 24,000 birds.

Additional Limits: In addition to the harvest limits stated for the respective zones above, an additional 4,500 Canada geese may be taken in the Horicon Zone under special agricultural permits.

Quota Zone Closures: When it has been determined that the quota of Canada geese allotted to the Northern Illinois, Central Illinois, Southern Illinois, and Rend Lake Quota Zones in Illinois; Posey County in Indiana; the Ballard and Henderson-Union Subzones in Kentucky; the Allegan County, Muskegon Wastewater, Saginaw County, and Tuscola/Huron Goose Management Units in Michigan; the Lac Qui Parle Zone in Minnesota; the Northwest Zone in Tennessee; and the Exterior Zone in Wisconsin will have been filled, the season for taking Canada geese in the respective zone (and associated area, if applicable) will be closed by either the Director upon giving public notice through local information media at least 48 hours in advance of the time and date of closing, or by the State through State regulations with such notice and time (not less than 48 hours) as they deem necessary.

Central Flyway

Ducks, Mergansers, and Coots

Outside Dates: Between September 29 and January 20.

Hunting Seasons and Duck Limits

(1) High Plains Mallard Management Unit (roughly defined as that portion of the Central Flyway which lies west of the 100th meridian): 97 days, except canvasbacks which may not exceed 25 consecutive days, and a daily bag limit of 6 ducks, including no more than 5 mallards (no more than 2 of which may be hens), 1 mottled duck, 1 canvasback, 1 pintail, 2 redheads, 3 scaup, and 2 wood ducks. The last 23 days may start no earlier than the Saturday nearest December 10 (December 8).

(2) Remainder of the Central Flyway: 74 days, except canvasbacks which may not exceed 25 consecutive days, and a daily bag limit of 6 ducks, including no more than 5 mallards (no more than 2 of which may be hens), 1 mottled duck, 1 canvasback, 1 pintail, 2 redheads, 3 scaup, and 2 wood ducks.

Merganser Limits: The daily bag limit is 5 mergansers, only 1 of which may be a hooded merganser. In States that include mergansers in the duck daily bag limit, the daily limit may be the same as the duck bag limit, only one of which may be a hooded merganser.

Coot Limits: The daily bag limit is 15 coots.

Zoning and Split Seasons: Kansas (Low Plains portion), Montana, Nebraska (Low Plains portion), New Mexico, Oklahoma (Low Plains portion), South Dakota (Low Plains portion), Texas (Low Plains portion), and Wyoming may select hunting seasons by zones.

In Kansas, Montana, Nebraska, New Mexico, North Dakota, Oklahoma, South Dakota, Texas, and Wyoming, the regular season may be split into two segments.

In Colorado, the season may be split into three segments.

Geese

Split Seasons: Seasons for geese may be split into three segments. Three-way split seasons for Canada geese require Central Flyway Council and U.S. Fish and Wildlife Service approval, and a 3-year evaluation by each participating State.

Outside Dates: For dark geese, seasons may be selected between the outside dates of the Saturday nearest October 1 (September 29) and the Sunday nearest February 15 (February 17). For light geese, outside dates for seasons may be selected between the Saturday nearest October 1 (September 29) and March 10. In the Rainwater Basin Light Goose Area (East and West) of Nebraska, temporal and spatial restrictions consistent with the experimental late-winter snow goose hunting strategy endorsed by the Central Flyway Council in July 1999, are required.

Season Lengths and Limits

Light Geese: States may select a light goose season not to exceed 107 days. The daily bag limit for light geese is 20 with no possession limit.

Dark Geese: In Kansas, Nebraska, North Dakota, Oklahoma, South Dakota, and the Eastern Goose Zone of Texas, States may select a season for Canada geese (or any other dark goose species except white-fronted geese) not to exceed 95 days with a daily bag limit of 3. Additionally, in the Eastern Goose Zone of Texas, an alternative season of 107 days with a daily bag limit of 1 Canada goose may be selected. For white-fronted geese, these States may select either a season of 86 days with a bag limit of 2 or a 107-day season with a bag limit of 1.

In South Dakota, for Canada geese in the Big Stone Power Plant Area of Canada Goose Unit 3, the daily bag limit is 3 until November 30 and 2 thereafter.

In Colorado, Montana, New Mexico and Wyoming, States may select seasons not to exceed 107 days. The daily bag limit for dark geese is 5 in the aggregate.

In the Western Goose Zone of Texas, the season may not exceed 107 days. The daily bag limit for Canada geese (or any other dark goose species except white-fronted geese) is 5. The daily bag limit for white-fronted geese is 1.

Pacific Flyway

Ducks, Mergansers, Coots, Common Moorhens, and Purple Gallinules

Hunting Seasons and Duck Limits: Concurrent 107 days and daily bag limit of 7 ducks and mergansers, including no more than 2 female mallards, 1 pintail, 4 scaup, 2 redheads. The season on canvasbacks is closed, except one canvasback may be included in the daily bag for 38 consecutive days within the Pacific Flyway duck season. A single canvasback may also be included in the 7-bird daily bag limit for designated youth-hunt days.

The season on coots and common moorhens may be between the outside dates for the season on ducks, but not to exceed 107 days.

Coot, Common Moorhen, and Purple Gallinule Limits: The daily bag and possession limits of coots, common moorhens, and purple gallinules are 25, singly or in the aggregate.

Outside Dates: Between the Saturday nearest October 1 (September 29) and the Sunday nearest January 20 (January 20).

Zoning and Split Seasons: Arizona, California, Idaho, Nevada, Oregon, Utah, and Washington may select hunting seasons by zones.

Arizona, California, Idaho, Nevada, Oregon, Utah, and Washington may split their seasons into two segments.

Colorado, Montana, New Mexico, and Wyoming may split their seasons into three segments.

Colorado River Zone, California: Seasons and limits shall be the same as seasons and limits selected in the adjacent portion of Arizona (South Zone).

Geese

Season Lengths, Outside Dates, and Limits: Except as subsequently noted, 100-day seasons may be selected, with outside dates between the Saturday nearest October 1 (September 29), and the Sunday nearest January 20 (January 20), and the basic daily bag limits are 3 light geese and 4 dark geese, except in California, Oregon, and Washington, where the dark goose bag limit does not include brant.

Split Seasons: Unless otherwise specified, seasons for geese may be split into up to 3 segments. Three-way split seasons for Canada geese and white-fronted geese require Pacific Flyway Council and U.S. Fish and Wildlife Service approval and a 3-year evaluation by each participating State.

Brant Season

A 16-consecutive-day season may be selected in Oregon. A 16-day season may be selected in Washington, and this season may be split into 2-segments. A 30-consecutive-day season may be selected in California. In these States, the daily bag limit is 2 brant and is in addition to dark goose limits.

Arizona: The daily bag limit for dark geese is 3.

California

Northeastern Zone—White-fronted geese and cackling Canada geese may be taken only during the first 44 days of the goose season. The daily bag limit is 3 geese and may include no more than 2 dark geese; including not more than 1 cackling Canada goose or 1 Aleutian Canada goose.

Balance-of-the-State Zone—A 79-day season may be selected. Limits may not include more than 3 geese per day, of which not more than 2 may be white-fronted geese and not more than 1 may be a cackling Canada goose or Aleutian Canada goose. Three areas in the Balance-of-the-State Zone are restricted in the hunting of certain geese:

(1) In the Counties of Del Norte and Humboldt, there will be no open season for Canada geese, except for the Special September Canada goose hunt in Humboldt County.

(2) In the Sacramento Valley Special Management Area (West), the season on white-fronted geese must end on or before December 14, and, in the Sacramento Valley Special Management Area (East), there will be no open season for Canada geese.

(3) In the San Joaquin Valley Special Management Area, there will be no open season for Canada geese.

Oregon: Except as subsequently noted, the dark goose daily bag limit is 4, including not more than 1 cackling Canada goose or Aleutian Canada goose.

Lake County Zone—The daily dark goose bag limit may not include more than 2 white-fronted geese.

Western Zone—Special Canada Goose Management Area, except for designated areas, there will be no open season on Canada geese. In the designated areas, individual quotas will be established that collectively will not exceed 165 dusky Canada geese. See section on quota zones. In those designated areas, the daily bag limit of dark geese is 4 and may include no more than 1 Aleutian Canada goose.

Closed Zone: Those portions of Coos and Curry Counties west of US 101 and all of Tillamook and Lincoln Counties.

Washington: The daily bag limit is 4 geese, including 4 dark geese but not more than 3 light geese.

Southwest Quota Zone—In the Special Goose Management Area, except for designated areas, there will be no open season on Canada geese. In the designated areas, individual quotas will be established that collectively will not exceed 85 dusky Canada geese. See section on quota zones. In this area, the daily bag limit of dark geese is 4 and may include 4 cackling Canada geese. In Southwest Quota Zone Area 2B (Pacific and Grays Harbor Counties) the dark goose bag limit may include 1 Aleutian Canada goose.

Colorado: The daily bag limit for dark geese is 3 geese.

Idaho

Northern Unit—The daily bag limit is 4 geese, including 4 dark geese, but not more than 3 light geese.

Southwest Unit and Southeastern Unit—The daily bag limit on dark geese is 4.

Montana: West of Divide Zone and East of Divide Zone—The daily bag limit of dark geese is 4.

Nevada: The daily bag limit for dark geese is 3 except in the Lincoln and Clark County Zone, where the daily bag limit of dark geese is 2.

New Mexico: The daily bag limit of dark geese is 3.

Utah: The daily bag limit for dark geese is 3 geese.

Wyoming: The daily bag limit is 4 dark geese.

Quota Zones: Seasons on dark geese must end upon attainment of individual quotas of dusky Canada geese allotted to the designated areas of Oregon and Washington. The September Canada goose season, the regular goose season, any special late dark goose season, and any extended falconry season, combined, must not exceed 107 days, and the established quota of dusky Canada geese must not be exceeded. Hunting of dark geese in those designated areas will only be by hunters possessing a State-issued permit authorizing them to do so. In a Service-

approved investigation, the State must obtain quantitative information on hunter compliance of those regulations aimed at reducing the take of dusky Canada geese. If the monitoring program cannot be conducted, for any reason, the season must immediately close. In the designated areas of the Washington Quota Zone, a special late dark goose season may be held between the Saturday following the close of the general goose season and March 10. In the Special Canada Goose Management Area of Oregon, the framework closing date is extended to the Sunday closest to March 1 (March 3). Regular dark goose seasons may be split into 3 segments within the Oregon and Washington quota zones. The 3-way split seasons are considered experimental for this year. An evaluation of the 3-way split seasons is required and must be submitted by July 2002.

Swans

In designated areas of Utah, Nevada, and the Pacific Flyway portion of Montana, an open season for taking a limited number of swans may be selected. Permits will be issued by States and will authorize each permittee to take no more than 1 swan per season. The season may open no earlier than the Saturday nearest October 1 (September 29). The States must implement a harvest-monitoring program to measure the species composition of the swan harvest. In Utah and Nevada, the

harvest-monitoring program must require that all harvested swans or their species-determinant parts be examined by either State or Federal biologists for the purpose of species classification. All States should use appropriate measures to maximize hunter compliance in providing bagged swans for examination or, in the case of Montana, reporting bill-measurement and color information. All States must achieve at least an 80-percent compliance rate, or subsequent permits will be reduced by 10 percent. All States must provide to the Service by June 30, 2002, a report covering harvest, hunter participation, reporting compliance, and monitoring of swan populations in the designated hunt areas. These seasons will be subject to the following conditions:

In Utah, no more than 2,000 permits may be issued. The season must end no later than the second Sunday in December (December 9) or upon attainment of 10 trumpeter swans in the harvest, whichever occurs earliest. Utah must enter into a Memorandum of Agreement with the Service regarding harvest monitoring, season closure procedures, and education requirements for swan seasons in Utah.

In Nevada, no more than 650 permits may be issued. The season must end no later than the Sunday following January 1 (January 6) or upon attainment of 5 trumpeter swans in the harvest, whichever occurs earliest.

In Montana, no more than 500 permits may be issued. The season must end no later than December 1.

Tundra Swans

In the Central Flyway portion of Montana, and in North Carolina, North Dakota, South Dakota (east of the Missouri River), and Virginia, an open season for taking a limited number of tundra swans may be selected. Permits will be issued by States that authorize the take of no more than 1 tundra swan per permit. A second permit may be issued to hunters from unused permits remaining after the first drawing. The States must obtain harvest and hunter participation data. These seasons will be subject to the following conditions:

In the Atlantic Flyway

—The season will be experimental.

—The season may be 90 days, from October 1 to January 31.

—In North Carolina, no more than 5,000 permits may be issued.

—In Virginia, no more than 600 permits may be issued.

In the Central Flyway

—The season may be 107 days, from the Saturday nearest October 1 (September 29) to January 31.

—In the Central Flyway portion of Montana, no more than 500 permits may be issued.

—In North Dakota, no more than 2,000 permits may be issued.

—In South Dakota, no more than 1,500 permits may be issued.

Area, Unit, and Zone Descriptions

Ducks (Including Mergansers) and Coots

Atlantic Flyway

Connecticut

North Zone: That portion of the State north of I-95.

South Zone: Remainder of the State.

Maine

North Zone: That portion north of the line extending east along Maine State Highway 110 from the New Hampshire and Maine border to the intersection of Maine State Highway 11 in Newfield; then north and east along Route 11 to the intersection of U.S. Route 202 in Auburn; then north and east on Route 202 to the intersection of Interstate Highway 95 in Augusta; then north and east along I-95 to Route 15 in Bangor; then east along Route 15 to Route 9; then east along Route 9 to Stony Brook in Baileyville; then east along Stony Brook to the United States border.

South Zone: Remainder of the State.

Massachusetts

Western Zone: That portion of the State west of a line extending south from the Vermont border on I-91 to MA 9, west on MA 9 to MA 10, south on MA 10 to U.S. 202, south on U.S. 202 to the Connecticut border.

Central Zone: That portion of the State east of the Berkshire Zone and west of a line extending south from the New Hampshire border on I-95 to U.S. 1, south on U.S. 1 to I-93, south on I-93 to MA 3, south on MA 3 to U.S. 6, west on U.S. 6 to MA 28, west on MA 28 to I-195, west to the Rhode Island border; except the waters, and the lands 150 yards inland from the high-water mark, of the Assonet River upstream to the MA 24 bridge, and the Taunton River upstream to the Center St.-Elm St. bridge shall be in the Coastal Zone.

Coastal Zone: That portion of Massachusetts east and south of the Central Zone.

New Hampshire

Coastal Zone: That portion of the State east of a line extending west from the Maine border in Rollinsford on NH 4 to the city of Dover, south to NH 108, south along NH 108 through Madbury, Durham, and Newmarket to NH 85 in Newfields, south to NH 101 in Exeter, east to NH 51 (Exeter-Hampton Expressway), east to I-95 (New Hampshire Turnpike) in Hampton, and south along I-95 to the Massachusetts border.

Inland Zone: That portion of the State north and west of the above boundary and along the Massachusetts border crossing the Connecticut River to Interstate 91 and northward in Vermont to Route 2, east to 102, northward to the Canadian border.

New Jersey

Coastal Zone: That portion of the State seaward of a line beginning at the New York border in Raritan Bay and extending west along the New York border to NJ 440 at Perth Amboy; west on NJ 440 to the Garden State Parkway; south on the Garden State Parkway to the shoreline at Cape May and continuing to the Delaware border in Delaware Bay.

North Zone: That portion of the State west of the Coastal Zone and north of a line extending west from the Garden State Parkway on NJ 70 to the New Jersey Turnpike, north on the turnpike to U.S. 206, north on U.S. 206 to U.S. 1 at Trenton, west on U.S. 1 to the Pennsylvania border in the Delaware River.

South Zone: That portion of the State not within the North Zone or the Coastal Zone.

New York

Lake Champlain Zone: The U.S. portion of Lake Champlain and that area east and north of a line extending along NY 9B from the Canadian border to U.S. 9, south along U.S. 9 to NY 22 south of Keesville; south along NY 22 to the west shore of South Bay, along and around the shoreline of South Bay to NY 22 on the east shore of South Bay; southeast along NY 22 to U.S. 4, northeast along U.S. 4 to the Vermont border.

Long Island Zone: That area consisting of Nassau County, Suffolk County, that area of Westchester County southeast of I-95, and their tidal waters.

Western Zone: That area west of a line extending from Lake Ontario east along the north shore of the Salmon River to I-81, and south along I-81 to the Pennsylvania border.

Northeastern Zone: That area north of a line extending from Lake Ontario east along the north shore of the Salmon River to I-81 to NY 31, east along NY 31 to NY 13, north along NY 13 to NY 49, east along NY 49 to NY 365, east along NY 365 to NY 28, east along NY 28 to NY 29, east along NY 29 to I-87, north along I-87 to U.S. 9 (at Exit 20), north along U.S. 9 to NY 149, east along NY 149 to U.S. 4, north along U.S. 4 to the Vermont border, exclusive of the Lake Champlain Zone.

Southeastern Zone: The remaining portion of New York.

Pennsylvania

Lake Erie Zone: The Lake Erie waters of Pennsylvania and a shoreline margin along Lake Erie from New York on the east to Ohio on the west extending 150 yards inland, but including all of Presque Isle Peninsula.

Northwest Zone: The area bounded on the north by the Lake Erie Zone and including all of Erie and Crawford Counties and those portions of Mercer and Venango Counties north of I-80.

North Zone: That portion of the State east of the Northwest Zone and north of a line extending east on I-80 to U.S. 220, Route 220 to I-180, I-180 to I-80, and I-80 to the Delaware River.

South Zone: The remaining portion of Pennsylvania.

Vermont

Lake Champlain Zone: The U.S. portion of Lake Champlain and that area north and west of the line extending from the New York border along U.S. 4 to VT 22A at Fair Haven; VT 22A to U.S. 7 at Vergennes; U.S. 7 to the Canadian border.

Interior Zone: That portion of Vermont west of the Lake Champlain Zone and eastward of a line extending from the Massachusetts border at Interstate 91; north along Interstate 91 to US 2; east along US 2 to VT 102; north along VT 102 to VT 253; north along VT 253 to the Canadian border.

Connecticut River Zone: The remaining portion of Vermont east of the Interior Zone.

West Virginia

Zone 1: That portion outside the boundaries in Zone 2.

Zone 2 (Allegheny Mountain Upland): That area bounded by a line extending south along U.S. 220 through Keyser to U.S. 50; U.S. 50 to WV 93; WV 93 south to WV 42; WV 42 south to Petersburg; WV 28 south to Minnehaha Springs; WV 39 west to U.S. 219; U.S. 219 south to I-64; I-64 west to U.S. 60; U.S. 60 west to U.S. 19; U.S. 19 north to I-79, I-79 north to I-68; I-68 east to the Maryland border; and along the border to the point of beginning.

Mississippi Flyway

Alabama

South Zone: Mobile and Baldwin Counties.

North Zone: The remainder of Alabama.

Illinois

North Zone: That portion of the State north of a line extending east from the Iowa border along Illinois Highway 92 to Interstate Highway 280, east along I-280 to I-80, then east along I-80 to the Indiana border.

Central Zone: That portion of the State south of the North Zone to a line extending east from the Missouri border along the Modoc Ferry route to Modoc Ferry Road, east along Modoc Ferry Road to Modoc Road, northeasterly along Modoc Road and St. Leo's Road to Illinois Highway 3, north along Illinois 3 to Illinois 159, north along Illinois 159 to Illinois 161, east along Illinois 161 to Illinois 4, north along Illinois 4 to Interstate Highway 70, east along I-70 to the Bond County line, north and east along the Bond County line to Fayette County, north and east along the Fayette County line to Effingham County, east and south along the Effingham County line to I-70, then east along I-70 to the Indiana border.

South Zone: The remainder of Illinois.

Indiana

North Zone: That portion of the State north of a line extending east from the Illinois border along State Road 18 to U.S. Highway 31, north along U.S. 31 to U.S. 24, east along U.S. 24 to Huntington, then southeast along U.S. 224 to the Ohio border.

Ohio River Zone: That portion of the State south of a line extending east from the Illinois border along Interstate Highway 64 to New Albany, east along State Road 62 to State Road 56, east along State Road 56 to Vevay, east and north on State 156 along the Ohio River to North Landing, north along State 56 to U.S. Highway 50, then northeast along U.S. 50 to the Ohio border.

South Zone: That portion of the State between the North and Ohio River Zone boundaries.

Iowa

North Zone: That portion of the State north of a line extending east from the Nebraska border along State Highway 175 to State Highway 37, southeast along State Highway 37 to U.S. Highway 59, south along U.S. 59 to Interstate Highway 80, then east along I-80 to the Illinois border.

South Zone: The remainder of Iowa.

Kentucky

West Zone: All counties west of and including Butler, Daviess, Ohio, Simpson, and Warren Counties.

East Zone: The remainder of Kentucky.

Louisiana

West Zone: That portion of the State west and south of a line extending south from the Arkansas border along Louisiana Highway 3 to Bossier City, east along Interstate Highway 20 to Minden, south along Louisiana 7 to Ringgold, east along Louisiana 4 to Jonesboro, south along U.S. Highway 167 to Lafayette, southeast along U.S. 90 to the Mississippi State line.

East Zone: The remainder of Louisiana.

Catahoula Lake Area: All of Catahoula Lake, including those portions known locally as Round Prairie, Catfish Prairie, and Frazier's Arm. See State regulations for additional information.

Michigan

North Zone: The Upper Peninsula.

Middle Zone: That portion of the Lower Peninsula north of a line beginning at the Wisconsin border in Lake Michigan due west of the mouth of Stony Creek in Oceana County; then due east to, and easterly and southerly along the south shore of Stony Creek to Scenic Drive, easterly and southerly along Scenic Drive to Stony Lake Road, easterly along Stony Lake and Garfield Roads to Michigan Highway 20, east along Michigan 20 to U.S. Highway 10 Business Route (BR) in the city of Midland, easterly along U.S. 10 BR to U.S. 10, easterly along U.S. 10 to Interstate Highway 75/U.S. Highway 23, northerly along I-75/U.S. 23 to the U.S. 23 exit at Standish, easterly along U.S. 23 to the centerline of the Au Gres River, then southerly along the centerline of the Au Gres River to Saginaw Bay, then on a line directly east 10 miles into Saginaw Bay, and from that point on a line directly northeast to the Canadian border.

South Zone: The remainder of Michigan.

Missouri

North Zone: That portion of Missouri north of a line running west from the Illinois border (Lock and Dam 25) on Lincoln County Highway N to Missouri Highway 79; south on Missouri Highway 79 to Missouri Highway 47; west on Missouri Highway 47 to Interstate 70; west on Interstate 70 to U.S. Highway 54; south on U.S. Highway 54 to U.S. Highway 50; west on U.S. Highway 50 to the Kansas border.

South Zone: That portion of Missouri south of a line running west from the Illinois border on Missouri Highway 34 to Interstate 55; south on Interstate 55 to U.S. Highway 62; west on U.S. Highway 62 to Missouri Highway 53; north on Missouri Highway 53 to Missouri Highway 51; north on Missouri Highway 51 to U.S. Highway 60; west on U.S. Highway 60 to Missouri Highway 21; north on Missouri Highway 21 to Missouri Highway 72; west on Missouri Highway 72 to Missouri Highway 32; west on Missouri Highway 32 to U.S. Highway 65; north on U.S. Highway 65 to U.S. Highway 54; west on U.S. Highway 54 to the Kansas border.

Middle Zone: The remainder of Missouri.

Ohio

North Zone: That portion of the State north of a line extending east from the Indiana border along U.S. Highway 30 to State Route 37, south along SR 37 to SR 95, east along SR 95 to LaRue-Prospect Road, east along LaRue-Prospect Road to SR 203, south along SR 203 to SR 739, east along SR 739 to SR 4, north along SR 4 to SR 309, east along SR 309 to U.S. 23, north along U.S. 23 to SR 231, north along SR 231 to U.S. 30, east along U.S. 30 to SR 42, north along SR 42 to SR 603, south along SR 603 to U.S. 30, east along U.S. 30 to SR 60, south along SR 60 to SR 39/60, east along SR 39/60 to SR 39, east along SR 39 to SR 241, east along SR 241 to U.S. 30, then east along U.S. 30 to the West Virginia border.

South Zone: The remainder of Ohio.

Tennessee

Reelfoot Zone: All or portions of Lake and Obion Counties.

State Zone: The remainder of Tennessee.

Wisconsin

North Zone: That portion of the State north of a line extending east from the Minnesota border along State Highway 77 to State 27, south along State 27 and 77 to U.S. Highway 63, and continuing south along State 27 to Sawyer County Road B, south and east along County B to State 70, southwest along State 70 to State 27, south along State 27 to State 64, west along State 64/27 and south along State 27 to U.S. 12, south and east on State 27/U.S. 12 to U.S. 10, east on U.S. 10 to State 310, east along State 310 to State 42, north along State 42 to State 147, north along State 147 to State 163, north along State 163 to Kewaunee County Trunk A, north along County Trunk A to State 57, north along State 57 to the Kewaunee/Door County Line, west along the Kewaunee/Door County Line to the Door/Brown County Line, west along the Door/Brown County Line to the Door/Oconto/Brown County Line, northeast along the Door/Oconto County Line to the Marinette/Door County Line, northeast along the Marinette/Door County Line to the Michigan border.

South Zone: The remainder of Wisconsin.

Central Flyway

Kansas

High Plains Zone: That portion of the State west of U.S. 283.

Low Plains Early Zone: That area of Kansas east of U.S. 283, and generally west of a line beginning at the Junction of the Nebraska border and KS 28; south on KS 28 to U.S. 36; east on U.S. 36 to KS 199; south on KS 199 to Republic Co. Road 563; south on Republic Co. Road 563 to KS 148; east on KS 148 to Republic Co. Road 138; south on Republic Co. Road 138 to Cloud Co. Road 765; south on Cloud Co. Road 765 to KS 9; west on KS 9 to U.S. 24; west on U.S. 24 to U.S. 281; north on U.S. 281 to U.S. 36; west on U.S. 36 to U.S. 183; south on U.S. 183 to U.S. 24; west on U.S. 24 to KS 18; southeast on KS 18 to U.S. 183; south on U.S. 183 to KS 4; east on KS 4 to I-135; south on I-135 to KS 61; southwest on KS 61 to KS 96; northwest on KS 96 to U.S. 56; west on U.S. 56 to U.S. 281; south on U.S. 281 to U.S. 54; and west on U.S. 54 to U.S. 183; north on U.S. 183 to U.S. 56; southwest on U.S. 56 to U.S. 283.

Low Plains Late Zone: The remainder of Kansas.

Montana (Central Flyway Portion)

Zone 1: The Counties of Blaine, Carbon, Carter, Daniels, Dawson, Fallon, Fergus, Garfield, Golden Valley, Judith Basin, McCone, Musselshell, Petroleum, Phillips, Powder River, Richland, Roosevelt, Sheridan, Stillwater, Sweet Grass, Valley, Wheatland, Wibaux, and Yellowstone.

Zone 2: The remainder of Montana.

Nebraska

High Plains Zone: That portion of the State west of highways U.S. 183 and U.S. 20 from the South Dakota border to Ainsworth, NE 7 and NE 91 to Dunning, NE 2 to Merna, NE 92 to Arnold, NE 40 and NE 47 through Gothenburg to NE 23, NE 23 to Elwood, and U.S. 283 to the Kansas border.

Low Plains Zone 1: That portion of the State east of the High Plains Zone and north and west of a line extending from the South Dakota border along NE 26E Spur to NE 12, west on NE 12 to the Knox/Boyd County line, south along the county line to the Niobrara River and along the Niobrara River to U.S. 183 (the High Plains Zone line). Where the Niobrara River forms the boundary, both banks will be in Zone 1.

Low Plains Zone 2: Area bounded by designated Federal and State highway's and political boundaries beginning at the Kansas-Nebraska border on U.S. Hwy. 73; north to NE Hwy. 67 north to U.S. Hwy 136; east to the Steamboat Trace (Trace); north to Federal Levee R-562; north and west to the Trace/Burlington Northern Railroad right-of-way; north to NE Hwy 2; west to U.S. Hwy 75; north to NE Hwy. 2; west to NE Hwy. 43; north to U.S. Hwy. 34; east to NE Hwy. 63; north and west to U.S.

Hwy. 77; north to NE Hwy. 92; west to U.S. Hwy. 81; south to NE Hwy. 66; west to NE Hwy. 14; south to U.S. Hwy 34; west to NE Hwy. 2; south to U.S. Hwy. I-80; west to Gunbarrrel Rd. (Hall/Hamilton county line); south to Giltner Rd.; west to U.S. Hwy. 281; south to U.S. Hwy. 34; west to NE Hwy 10; north to County Road “R” (Kearney County) and County Road #742 (Phelps County); west to County Road #438 (Gosper County line); south along County Road #438 (Gosper County line) to County Road #726 (Furnas County Line); east to County Road #438 (Harlan County Line); south to U. S. Hwy 34; south and west to U.S. Hwy. 136; east to NE Hwy. 10; south to the Kansas-Nebraska border.

Low Plains Zone 3: The area east of the High Plains Zone, excluding Low Plains Zone 1, north of Low Plains Zone 2.

Low Plains Zone 4: The area east of the High Plains Zone and south of Zone 2.

New Mexico (Central Flyway Portion)

North Zone: That portion of the State north of I-40 and U.S. 54.

South Zone: The remainder of New Mexico.

North Dakota

High Plains Unit: That portion of the State south and west of a line from the South Dakota border along U.S. 83 and I-94 to ND 41, north to U.S. 2, west to the Williams/Divide County line, then north along the County line to the Canadian border.

Low Plains: The remainder of North Dakota.

Oklahoma

High Plains Zone: The Counties of Beaver, Cimarron, and Texas.

Low Plains Zone 1: That portion of the State east of the High Plains Zone and north of a line extending east from the Texas border along OK 33 to OK 47, east along OK 47 to U.S. 183, south along U.S. 183 to I-40, east along I-40 to U.S. 177, north along U.S. 177 to OK 33, west along OK 33 to I-35, north along I-35 to U.S. 412, west along U.S. 412 to OK 132, then north along OK 132 to the Kansas border.

Low Plains Zone 2: The remainder of Oklahoma.

South Dakota

High Plains Unit: That portion of the State west of a line beginning at the North Dakota border and extending south along U.S. 83 to U.S. 14, east along U.S. 14 to Blunt-Canning Road in Blunt, south along Blunt-Canning Road to SD 34, east to SD 47, south to I-90, east to SD 47, south to SD 49, south to Colome and then continuing south on U.S. 183 to the Nebraska border.

North Zone: That portion of northeastern South Dakota east of the High Plains Unit and north of a line extending east along US 212 to the Minnesota border.

South Zone: That portion of Gregory County east of SD 47, Charles Mix County south of SD 44 to the Douglas County line, south on SD 50 to Geddes, east on the Geddes Hwy. to U.S. 281, south on U.S. 281 and U.S. 18 to SD 50, south and east on SD 50 to Bon Homme County line, the Counties of Bon Homme, Yankton, and Clay south of SD 50, and Union County south and west of SD 50 and I-29.

Middle Zone: The remainder of South Dakota.

Texas

High Plains Zone: That portion of the State west of a line extending south from the Oklahoma border along U.S. 183 to Vernon, south along U.S. 283 to Albany, south along TX 6 to TX 351 to Abilene, south along U.S. 277 to Del Rio, then south along the Del Rio International Toll Bridge access road to the Mexico border.

Low Plains North Zone: That portion of northeastern Texas east of the High Plains Zone and north of a line beginning at the International Toll Bridge south of Del Rio, then extending east on U.S. 90 to San Antonio, then continuing east on I-10 to the Louisiana border at Orange, Texas.

Low Plains South Zone: The remainder of Texas.

Wyoming (Central Flyway portion)

Zone 1: The Counties of Converse, Goshen, Hot Springs, Natrona, Platte, and Washakie Counties; and the portion of Park County east of the Shoshone National Forest boundary and south of a line beginning where the Shoshone National Forest boundary meets Park County Road 8VC, east along Park County Road 8VC to Park County Road 1AB, continuing east along Park County Road 1AB to Wyoming Highway 120, north along WY Highway 120 to WY Highway 294, south along WY Highway 294 to Lane 9, east along Lane 9 to Powel and WY Highway 14A, and finally east along WY Highway 14A to the Park County and Big Horn County line.

Zone 2: The reminder of Wyoming.

Pacific Flyway

Arizona

Game Management Units (GMU) as follows:

South Zone: Those portions of GMUs 6 and 8 in Yavapai County, and GMUs 10 and 12B-45.

North Zone: GMUs 1-5, those portions of GMUs 6 and 8 within Coconino County, and GMUs 7, 9, 12A.

California

Northeastern Zone: In that portion of California lying east and north of a line beginning at the intersection of the Klamath River with the California-Oregon line; south and west along the Klamath River to the mouth of Shovel Creek; along Shovel Creek to its intersection with Forest Service Road 46N05 at Burnt Camp; west to its junction with Forest Service Road 46N10; south and east to its Junction with County Road 7K007; south and west to its junction with Forest Service Road 45N22; south and west to its junction with Highway 97 and Grass Lake Summit; south along to its junction with Interstate 5 at the town of Weed; south to its junction with Highway 89; east and south along Highway 89 to main street Greenville; north and east to its junction with North Valley Road; south to its junction of Diamond Mountain Road; north and east to its junction with North Arm Road; south and west to the junction of North Valley Road; south to the junction with Arlington Road (A22); west to the junction of Highway 89; south and west to the junction of Highway 70; east on Highway 70 to Highway 395; south and east on Highway 395 to the point of intersection with the California-Nevada state line; north along the California-Nevada state line to the junction of the California-Nevada-Oregon state lines west along the California-Oregon line state to the point of origin

Colorado River Zone: Those portions of San Bernardino, Riverside, and Imperial Counties east of a line extending from the Nevada border south along U.S. 95 to Vidal Junction; south on a road known as “Aqueduct Road” in San Bernardino County through the town of Rice to the San Bernardino-Riverside County line; south on a road known in Riverside County as the “Desert Center to Rice Road” to the town of Desert Center; east 31 miles on I-10 to the Wiley Well Road; south on this road to Wiley Well; southeast along the Army-Milpitas Road to the Blythe, Brawley, Davis Lake intersections; south on the Blythe-Brawley paved road to the Ogilby and Tumco Mine Road; south on this road to U.S. 80; east seven miles on U.S. 80 to the Andrade-Algodones Road; south on this paved road to the Mexican border at Algodones, Mexico.

Southern Zone: That portion of southern California (but excluding the Colorado River Zone) south and east of a line extending from the Pacific Ocean east along the Santa Maria River to CA 166 near the City of Santa Maria; east on CA 166 to CA 99; south on CA 99 to the crest of the Tehachapi Mountains at Tejon Pass; east and north along the crest of the Tehachapi Mountains to CA 178 at Walker Pass; east on CA 178 to U.S. 395 at the town of Inyokern; south on U.S. 395 to CA 58; east on CA 58 to I-15; east on I-15 to CA 127; north on CA 127 to the Nevada border.

Southern San Joaquin Valley Temporary Zone: All of Kings and Tulare Counties and that portion of Kern County north of the Southern Zone.

Balance-of-the-State Zone: The remainder of California not included in the Northeastern, Southern, and Colorado River Zones, and the Southern San Joaquin Valley Temporary Zone.

Idaho

Zone 1: Includes all lands and waters within the Fort Hall Indian Reservation, including private inholdings; Bannock County; Bingham County, except that portion within the Blackfoot Reservoir drainage; and Power County east of ID 37 and ID 39.

Zone 2: Includes the following Counties or portions of Counties: Adams; Bear Lake; Benewah; Bingham within the Blackfoot Reservoir drainage; those portions of Blaine west of ID 75, south and east of U.S. 93, and between ID 75 and U.S. 93 north of U.S. 20 outside the Silver Creek drainage; Bonner; Bonneville; Boundary; Butte; Camas; Caribou except the Fort Hall Indian Reservation; Cassia within the Minidoka National Wildlife Refuge; Clark; Clearwater; Custer; Elmore within the Camas Creek drainage; Franklin; Fremont; Idaho; Jefferson; Kootenai; Latah; Lemhi; Lewis; Madison; Nez Perce; Oneida; Power within the Minidoka National Wildlife Refuge; Shoshone; Teton; and Valley Counties.

Zone 3: Includes the following Counties or portions of Counties: Ada; Blaine between ID 75 and U.S. 93 south of U.S. 20 and that additional area between ID 75 and U.S. 93 north of U.S. 20 within the Silver Creek drainage; Boise; Canyon; Cassia except within the Minidoka National Wildlife Refuge; Elmore except the Camas Creek drainage; Gem; Gooding; Jerome; Lincoln; Minidoka; Owyhee; Payette; Power west of ID 37 and ID 39 except that portion within the Minidoka National Wildlife Refuge; Twin Falls; and Washington Counties.

Nevada

Lincoln and Clark County Zone: All of Clark and Lincoln Counties.

Remainder-of-the-State Zone: The remainder of Nevada.

Oregon

Zone 1: Clatsop, Tillamook, Lincoln, Lane, Douglas, Coos, Curry, Josephine, Jackson, Linn, Benton, Polk, Marion, Yamhill, Washington, Columbia, Multnomah, Clackamas, Hood River, Wasco, Sherman, Gilliam, Morrow and Umatilla Counties.

Columbia Basin Mallard Management Unit: Gilliam, Morrow, and Umatilla Counties.

Zone 2: The remainder of the State.

Utah

Zone 1: All of Box Elder, Cache, Daggett, Davis, Duchesne, Morgan, Rich, Salt Lake, Summit, Unitah, Utah, Wasatch, and Weber Counties and that part of Toole County north of I-80.

Zone 2: The remainder of Utah.

Washington

East Zone: All areas east of the Pacific Crest Trail and east of the Big White Salmon River in Klickitat County.

Columbia Basin Mallard Management Unit: Same as East Zone.

West Zone: All areas to the west of the East Zone.

Geese

Atlantic Flyway

Connecticut

NAP Zone: Statewide, except for Hartford and Litchfield Counties west of the Connecticut River.

AP Zone: Remainder of the State.

South Zone: Same as for ducks.

North Zone: Same as for ducks.

Maryland

SJBP Zone: Allegheny, Carroll, Frederick, Garrett, Washington counties and the portion of Montgomery County south of Interstate 270 and west of Interstate 495 to the Potomac River.

AP Zone: Remainder of the State.

Massachusetts

NAP Zone: Central Zone (same as for ducks) and that portion of the Coastal Zone that lies north of route 139 from Green Harbor.

AP Zone: Remainder of the State.

Special Late Season Area: That portion of the Coastal Zone (see duck zones) that lies north of Route 14, east of St. George Road, and east of the Powder Point Bridge.

New Hampshire

Same zones as for ducks.

New Jersey

North—that portion of the State within a continuous line that runs east along the New York State boundary line to the Hudson River; then south along the New York State boundary to its intersection with Route 440 at Perth Amboy; then west on Route 440 to its intersection with Route 287; then west along Route 287 to its intersection with Route 206 in Bedminster (Exit 18); then north along Route 206 to its intersection with Route 94: then west along Route 94 to the tollbridge in Columbia; then north along the Pennsylvania State boundary in the Delaware River to the beginning point.

South—that portion of the State within a continuous line that runs west from the Atlantic Ocean at Ship Bottom along Route 72 to Route 70; then west along Route 70 to Route 206; then south along Route 206 to Route 536; then west along Route 536 to Route 322; then west along Route 322 to Route 55; then south along Route 55 to Route 553 (Buck Road); then south along Route 553 to

Route 40; then east along Route 40 to route 55; then south along Route 55 to Route 552 (Sherman Avenue); then west along Route 552 to Carmel Road; then south along Carmel Road to Route 49; then east along Route 49 to Route 555; then south along Route 555 to Route 553; then east along Route 553 to Route 649; then north along Route 649 to Route 670; then east along Route 670 to Route 47; then north along Route 47 to Route 548; then east along Route 548 to Route 49; then east along Route 49 to Route 50; then south along Route 50 to Route 9; then south along Route 9 to Route 625 (Sea Isle City Boulevard); then east along Route 625 to the Atlantic Ocean; then north to the beginning point.

New York

Special Late Season Area for Canada Geese: all of Tioga and Broome Counties; and that area of Chemung County lying east of a continuous line extending southeast along Route 224 from the Schuyler County line to Route 34, then south along Route 34 to the New York-Pennsylvania boundary; and that area of Delaware, Sullivan, and Orange Counties lying southwest of a continuous line extending east along State Route 17 from the Broome County line to U.S. Route 209 at Wurtsboro and then south along Route 209 to the New York-Pennsylvania boundary at Port Jervis, excluding areas on or within 50 yards of the Delaware River between the confluence of the West Branch and East Branch below Hancock and the mouth of the Shingle Kill (3 miles upstream from Port Jervis); and that area of Orange, Rockland, Dutchess, Putnam and Westchester Counties lying southeast of a continuous line extending north along State Route 17 from the New York-New Jersey boundary at Suffern to Interstate Route 87, then north along Route 87 to Interstate Route 84, then east along Route 84 to the northern boundary of Putnam County, then east along that boundary to the New York-Connecticut boundary; and that area of Nassau and Suffolk Counties lying north of State Route 25A and west of a continuous line extending northward from State Route 25A along Randall Road (near Shoreham) to North Country Road, then east to Sound Road and then north to Long Island Sound and then due north to the New York-Connecticut boundary.

Long Island (NAP) Zone: Same as Long Island Duck Zone.

Southwest (SJBP) Zone: all of Allegany, Cattaraugus, and Chautauqua Counties; and that area of Niagara, Erie, Genesee, Wyoming, Livingston, Yates, Steuben, Schuyler, Chemung and Tioga Counties lying south and west of a continuous line extending from the New

York-Ontario boundary near Lewiston east along Interstate Route 190 to Route 31, then east along Route 31 to Route 78 in Lockport, then south along Route 78 to the Niagara-Erie County boundary (Tonawanda Creek), then east along the Niagara-Erie County boundary to Route 93, then south along Route 93 to Route 5, then east along Route 5 to Crittenden-Murrays Corners Road, then south along Crittenden-Murrays Corners Road to the NY State Thruway, then east along the Thruway to Route 98 at Batavia, then south along Route 98 to Route 20, then east along Route 20 to Route 19, then south along Route 19 to Route 63, then southeast along Route 63 to Route 246, then south along Route 246 to Route 39, then southwest along Route 39 to Route 19A, then south and east along Route

19A to Route 436, then east along Route 436 to Route 36 in Dansville, then south along Route 36 to Route 17, then east along Route 17 to Belfast Street in Bath, then east along Belfast Street to Route 415 (Washington Street), then east along Route 415 to Route 54, then northeast along Route 54 to Steuben County Route 87, then east along Route 87 to Steuben County Route 96, then east along Route 96 to Steuben County Route 114, then east along Route 114 to Schuyler County Route 23, then east along Route 23 to Schuyler County Route 28, then southeast along Route 28 to Route 409 at Watkins Glen, then southeast along Route 409 to Route 14, then south along Route 14 to Route 224, then southeast along Route 224 to Route 34 at Van Etten, then south along Route 34 to the New York-Pennsylvania boundary.

AP Zone: Remainder of the State.

North Carolina

Regular Season for Canada Geese: Statewide, except for the Northeast Hunt Unit.

Northeast Hunt Unit—Counties of Bertie (that portion east of NC-45, and that portion which is both west of U.S. 17, and east of US-13), Camden, Chowan, Currituck, Dare, Hyde, Northhampton (that portion which is both north of US-158 and east of NC-35), Pasquotank, Perquimans, Tyrrell, and Washington.

Pennsylvania

SJBP Zone: Area from the New York State line west of U.S. Route 220 to intersection of I-180, west of I-180 to intersection of SR 147, west of SR 147 to intersection of U.S. Route 322, west of U.S. Route 322 to intersection of I-81, west of I-81 to intersection of I-83, west of I-83 to I-283, west of I-283 to SR 441, west of SR 441 to U.S. Route 30, west of U.S. Route 30 to I-83, west of I-83 to Maryland State line, except for the Pymatuning Zone.

Pymatuning Zone: Area south of SR 198 from the Ohio State line to the intersection of SR 18, to the intersection of US Route 322/SR 18, to the intersection of SR 3013, then south to the Crawford/Mercer County line.

Special Late Season Area for Canada Geese: Same as SJBP Zone and the area from New York State line east of U.S. Route 220 to intersection of I-180, east of I-180 to intersection of SR 147, east of SR 147 to intersection of U.S. Route 322, east of Route 322 to intersection of I-81, north of I-81 to intersection of I-80, north of I-80 to New Jersey State line.

AP Zone: Remainder of the State.

Rhode Island

Special Area for Canada Geese: Kent and Providence Counties and portions of the towns of Exeter and North Kingston within Washington County (see State regulations for detailed descriptions).

South Carolina

Canada Goose Area: Statewide except for Clarendon County and that portion of Lake Marion in Orangeburg County and Berkeley County.

Vermont

Same zones as for ducks.

Virginia

SJBP Zone and Special Late Season Area for Canada Geese: All areas west of I-95.

Back Bay Area: The waters of Back Bay and its tributaries and the marshes adjacent thereto, and on the land and marshes between Back Bay and the Atlantic Ocean from Sandbridge to the North Carolina line, and on and along the shore of North Landing River and the marshes adjacent thereto, and on and along the shores of Binson Inlet Lake (formerly known as Lake Tecumseh) and Red Wing Lake and the marshes adjacent thereto.

AP Zone: Remainder of the State.

West Virginia

Same zones as for ducks.

Mississippi Flyway

Alabama

Same zones as for ducks, but in addition:

SJBP Zone: That portion of Morgan County east of U.S. Highway 31, north of State Highway 36, and west of U.S. 231; that portion of Limestone County south of U.S. 72; and that portion of Madison County south of Swancott Road and west of Triana Road.

Illinois

Same zones as for ducks, but in addition:

North Zone: Northern Illinois Quota Zone: The Counties of McHenry, Lake, Kane, DuPage, and those portions of LaSalle and Will Counties north of Interstate Highway 80.

Central Zone: Central Illinois Quota Zone: The Counties of Grundy, Woodford, Peoria, Knox, Fulton, Tazewell, Mason, Cass, Morgan, Pike, Calhoun, and Jersey, and those portions of LaSalle and Will Counties south of Interstate Highway 80.

South Zone: Southern Illinois Quota Zone: Alexander, Jackson, Union, and Williamson Counties.

Rend Lake Quota Zone: Franklin and Jefferson Counties.

Indiana

Same zones as for ducks, but in addition:

SJBP Zone: Jasper, LaGrange, LaPorte, Starke, and Steuben Counties, and that portion of the Jasper-Pulaski Fish and Wildlife Area in Pulaski County.

Iowa

Same zones as for ducks.

Kentucky

Western Zone: That portion of the State west of a line beginning at the Tennessee border at Fulton and extending north along the Purchase Parkway to Interstate Highway 24, east along I-24 to U.S. Highway 641, north along U.S. 641 to U.S. 60, northeast along U.S. 60 to the Henderson County line, then south, east, and northerly along the Henderson County line to the Indiana border.

Ballard Reporting Area: That area encompassed by a line beginning at the northwest city limits of Wickliffe in Ballard County and extending westward to the middle of the Mississippi River, north along the Mississippi River and along the low-water mark of the Ohio River on the Illinois shore to the Ballard-McCracken County line, south along the county line to Kentucky Highway 358, south along Kentucky 358 to U.S. Highway 60 at LaCenter; then southwest along U.S. 60 to the northeast city limits of Wickliffe.

Henderson-Union Reporting Area: Henderson County and that portion of Union County within the Western Zone.

Pennyroyal/Coalfield Zone: Butler, Daviess, Ohio, Simpson, and Warren Counties and all counties lying west to the boundary of the Western Goose Zone.

Michigan

MVP Zone: The MVP Zone consists of an area north and west of the point beginning at the southwest corner of Branch county, north continuing along the western border of Branch and Calhoun counties to the northwest corner of Calhoun county, then easterly to the southwest corner of Eaton county, then northerly to the southern border of Ionia county, then easterly to the southwest corner of Clinton county, then northerly along the western border of Clinton County continuing northerly along the county border of Gratiot and Montcalm counties to the southern border of Isabella county, then easterly to the southwest corner of Midland county, then northerly along the west Midland county border to Highway M-20, then easterly to U.S. Highway 10, then easterly to U.S. Interstate 75/U.S. Highway 23, then northerly along I-75/U.S. 23 to the U.S. 23 exit at Standish, then easterly on U.S. 23 to the centerline of the Au Gres River, then southerly along the centerline of the Au Gres River to Saginaw Bay, then on a line directly east 10 miles into Saginaw Bay, and from that point on a line directly northeast to the Canadian border.

SJBP Zone is the rest of the state, that area south and east of the boundary described above.

Tuscola/Huron Goose Management Unit (GMU): Those portions of Tuscola and Huron Counties bounded on the south by Michigan Highway 138 and Bay City Road, on the east by Colwood and Bay Port Roads, on the north by Kilmanagh Road and a line extending directly west off the end of Kilmanagh Road into Saginaw Bay to the west boundary, and on the west by the Tuscola-Bay County line and a line extending directly north off the end of the Tuscola-Bay County line into Saginaw Bay to the north boundary.

Allegan County GMU: That area encompassed by a line beginning at the junction of 136th Avenue and Interstate Highway 196 in Lake Town Township and extending easterly along 136th Avenue to Michigan Highway 40, southerly along Michigan 40 through the city of Allegan to 108th Avenue in Trowbridge Township, westerly along 108th Avenue to 46th Street, northerly ½ mile along 46th Street to 109th Avenue, westerly along 109th Avenue to I-196 in Casco Township, then northerly along I-196 to the point of beginning.

Saginaw County GMU: That portion of Saginaw County bounded by Michigan Highway 46 on the north; Michigan 52 on the west; Michigan 57 on the south; and Michigan 13 on the east.

Muskegon Wastewater GMU: That portion of Muskegon County within the boundaries of the Muskegon County wastewater system, east of the Muskegon State Game Area, in sections 5, 6, 7, 8, 17, 18, 19, 20, 29, 30, and 32, T10N R14W, and sections 1, 2, 10, 11, 12, 13, 14, 24, and 25, T10N R15W, as posted.

Special Canada Goose Seasons: Southern Michigan GMU: That portion of the State, including the Great Lakes and interconnecting waterways and excluding the Allegan County GMU, south of a line beginning at the Ontario border at the Bluewater Bridge in the city of Port Huron and extending westerly and southerly along Interstate Highway 94 to I-69, westerly along I-69 to Michigan Highway 21, westerly along Michigan 21 to I-96, northerly along I-96 to I-196, westerly along I-196 to Lake Michigan Drive (M-45) in Grand Rapids, westerly along Lake Michigan Drive to the Lake Michigan shore, then directly west from the end of Lake Michigan Drive to the Wisconsin border.

Central Michigan GMU: That portion of the Lower Peninsula north of the Southern Michigan GMU but south of a line beginning at the Wisconsin border in Lake Michigan due west of the mouth of Stony Creek in Oceana County; then due east to, and easterly and southerly along the south shore of Stony Creek to Scenic Drive, easterly and southerly along Scenic Drive to Stony Lake Road, easterly along Stony Lake and Garfield Roads to Michigan Highway 20, easterly along Michigan 20 to U.S. Highway 10 Business Route (BR) in the city of Midland, easterly along U.S. 10 BR to U.S. 10, easterly along U.S. 10 to Interstate Highway 75/U.S. Highway 23, northerly along I-75/U.S. 23 to the U.S. 23 exit at Standish, easterly along U.S. 23 to the centerline of the Au Gres River, then southerly along the centerline of the Au Gres River to Saginaw Bay, then on a line directly east 10 miles into Saginaw Bay, and from that point on a line directly northeast to the Canadian border, excluding the Tuscola/Huron GMU, Saginaw County GMU, and Muskegon Wastewater GMU.

Minnesota

West Zone: That portion of the state encompassed by a line beginning at the junction of State Trunk Highway (STH) 60 and the Iowa border, then north and east along STH 60 to U.S. Highway 71, north along U.S. 71 to Interstate Highway 94, then north and west along I-94 to the North Dakota border.

West Central Zone: That area encompassed by a line beginning at the intersection of State Trunk Highway (STH) 29 and U.S. Highway 212 and extending west along U.S. 212 to U.S. 59, south along U.S. 59 to STH 67, west along STH 67 to U.S. 75, north along U.S. 75 to County State Aid Highway (CSAH) 30 in Lac qui Parle County, west along CSAH 30 to the western boundary of the State, north along the western boundary of the State to a point due south of the intersection of STH 7 and CSAH 7 in Big Stone County, and continuing due north to said intersection, then north along CSAH 7 to CSAH 6 in Big Stone County, east along CSAH 6 to CSAH 21 in Big Stone County, south along CSAH 21 to CSAH 10 in Big Stone County, east along CSAH 10 to CSAH 22 in Swift County, east along CSAH 22 to CSAH 5 in Swift County, south along CSAH 5 to U.S. 12, east along U.S. 12 to CSAH 17 in Swift County, south along CSAH 17 to CSAH 9 in Chippewa County, south along CSAH 9 to STH 40, east along STH 40 to STH 29, then south along STH 29 to the point of beginning.

Lac qui Parle Zone: That area encompassed by a line beginning at the intersection of U.S. Highway 212 and County State Aid Highway (CSAH) 27 in Lac qui Parle County and extending north along CSAH 27 to CSAH 20 in Lac qui Parle County, west along CSAH 20 to State Trunk Highway (STH) 40, north along STH 40 to STH 119, north along STH 119 to CSAH 34 in Lac qui Parle County, west along CSAH 34 to CSAH 19 in Lac qui Parle County, north and west along CSAH 19 to CSAH 38 in Lac qui Parle County, west and north along CSAH 38 to U.S. 75, north along U.S. 75 to STH 7, east along STH 7 to CSAH 6 in Swift County, east along CSAH 6 to County Road 65 in Swift County, south along County 65 to County 34 in Chippewa County, south along County 34 to CSAH 12 in Chippewa County, east along CSAH 12 to CSAH 9 in Chippewa County, south along CSAH 9 to STH 7, southeast along STH 7 to Montevideo and along the municipal boundary of Montevideo to U.S. 212; then west along U.S. 212 to the point of beginning.

Northwest Zone: That portion of the state encompassed by a line extending east from the North Dakota border along U.S. Highway 2 to State Trunk Highway (STH) 32, north along STH 32 to STH 92, east along STH 92 to County State Aid Highway (CSAH) 2 in Polk County, north along CSAH 2 to CSAH 27 in Pennington County, north along CSAH 27 to STH 1, east along STH 1 to CSAH 28 in Pennington County, north along CSAH 28 to CSAH 54 in Marshall County, north along CSAH 54 to CSAH 9 in Roseau County, north along CSAH 9 to STH 11, west along STH 11 to STH 310, and north along STH 310 to the Manitoba border.

Special Canada Goose Seasons: Southeast Zone: That part of the State within the following described boundaries: beginning at the intersection of U.S. Highway 52 and the south boundary of the Twin Cities Metro Canada Goose Zone; thence along the U.S. Highway 52 to State Trunk Highway (STH) 57; thence along STH 57 to the municipal boundary of Kasson; thence along the municipal boundary of Kasson County State Aid Highway (CSAH) 13, Dodge County; thence along CSAH 13 to STH 30; thence along STH 30 to U. S. Highway 63; thence along U. S. Highway 63 to the south boundary of the State; thence along the south and east boundaries of the State to the south boundary of the Twin Cities Metro Canada Goose Zone; thence along said boundary to the point of beginning.

Missouri

Same zones as for ducks but in addition:

North Zone

Swan Lake Zone: That area bounded by U.S. Highway 36 on the north, Missouri Highway 5 on the east, Missouri 240 and U.S. 65 on the south, and U.S. 65 on the west.

Middle Zone

Southeast Zone: That portion of the State encompassed by a line beginning at the intersection of Missouri Highway (MO) 34 and Interstate 55 and extending south along I-55 to U.S. Highway 62, west along U.S. 62 to MO 53, north along MO 53 to MO 51, north along MO 51 to U.S. 60, west along U.S. 60 to MO 21, north along MO 21 to MO 72, east along MO 72 to MO 34, then east along MO 34 to I-55.

Ohio

Same zones as for ducks but in addition:

North Zone

Lake Erie SJBP Zone: That portion of the State encompassed by a line beginning in Lucas County at the Michigan State line on I-75, and extending south along I-75 to I-280, south along I-280 to I-80, east along I-80 to the Pennsylvania State line in Trumbull county, north along the Pennsylvania State line to SR 6 in Ashtabula county, west along SR 6 to the Lake/Cuyahoga county line, north along the Lake/Cuyahoga county line to the shore of Lake Erie.

Tennessee

Southwest Zone: That portion of the State south of State Highways 20 and 104, and west of U.S. Highways 45 and 45W.

Northwest Zone: Lake, Obion and Weakley Counties and those portions of Gibson and Dyer Counties not included in the Southwest Tennessee Zone.

Kentucky/Barkley Lakes Zone: That portion of the State bounded on the west by the eastern boundaries of the Northwest and Southwest Zones and on the east by State Highway 13 from the Alabama border to Clarksville and U.S. Highway 79 from Clarksville to the Kentucky border.

Wisconsin

Same zones as for ducks but in addition:

Horicon Zone: That area encompassed by a line beginning at the intersection of State Highway 21 and the Fox River in Winnebago County and extending westerly along State 21 to the west boundary of Winnebago County, southerly along the west boundary of Winnebago County to the north boundary of Green Lake County, westerly along the north boundaries of Green Lake and Marquette Counties to State 22, southerly along State 22 to State 33, westerly along State 33 to Interstate Highway 39, southerly along Interstate Highway 39 to Interstate Highway 90/94, southerly along I-90/94 to State 60, easterly along State 60 to State 83, northerly along State 83 to State 175, northerly along State 175 to State 33, easterly along State 33 to U.S. Highway 45, northerly along U.S. 45 to the east shore of the Fond Du Lac River, northerly along the east shore of the Fond Du Lac River to Lake Winnebago, northerly along the western shoreline of Lake Winnebago to the Fox River, then westerly along the Fox River to State 21.

Collins Zone: That area encompassed by a line beginning at the intersection of Hilltop Road and Collins Marsh Road in Manitowoc County and extending westerly along Hilltop Road to Humpty Dumpty Road, southerly along Humpty Dumpty Road to Poplar Grove Road, easterly and southerly along Poplar Grove Road to County Highway JJ, southeasterly along County JJ to Collins Road, southerly along Collins Road to the Manitowoc River, southeasterly along the Manitowoc River to Quarry Road, northerly along Quarry Road to Einberger Road, northerly along Einberger Road to Moschel Road, westerly along Moschel Road to Collins Marsh Road, northerly along Collins Marsh Road to Hilltop Road.

Exterior Zone: That portion of the State not included in the Horicon or Collins Zones.

Mississippi River Subzone: That area encompassed by a line beginning at the intersection of the Burlington Northern & Santa Fe Railway and the Illinois border in Grant County and extending northerly along the Burlington Northern & Santa Fe Railway to the city limit of Prescott in Pierce County, then west along the Prescott city limit to the Minnesota border.

Rock Prairie Subzone: That area encompassed by a line beginning at the intersection of the Illinois border and Interstate Highway 90 and extending north along I-90 to County Highway A, east along County A to U.S. Highway 12, southeast along U.S. 12 to State Highway 50, west along State 50 to State 120, then south along 120 to the Illinois border.

Brown County Subzone: That area encompassed by a line beginning at the intersection of the Fox River with Green Bay in Brown County and extending southerly along the Fox River to State Highway 29, northwesterly along State 29 to the Brown County line, south, east, and north along the Brown County line to Green Bay, due west to the midpoint of the Green Bay Ship Channel, then southwesterly along the Green Bay Ship Channel to the Fox River.

Central Flyway

Colorado (Central Flyway Portion)

Northern Front Range Area: All lands in Adams, Boulder, Clear Creek, Denver, Gilpin, Jefferson, Larimer, and Weld Counties west of I-25 from the Wyoming border south to I-70; west on I-70 to the Continental Divide; north along the Continental Divide to the Jackson-Larimer County Line to the Wyoming border.

South Park/San Luis Valley Area: Alamosa, Chaffee, Conejos, Costilla, Custer, Fremont, Lake, Park, Teller, and Rio Grande Counties and those portions of Hinsdale, Mineral, and Saguache Counties east of the Continental Divide.

North Park Area: Jackson County.

Arkansas Valley Area: Baca, Bent, Crowley, Kiowa, Otero, and Prowers Counties.

Pueblo County Area: Pueblo County.

Remainder: Remainder of the Central Flyway portion of Colorado.

Eastern Colorado Late Light Goose Area: that portion of the State east of Interstate Highway 25.

Nebraska

Dark Geese

North Unit: Keya Paha County east of U.S. 183 and all of Boyd County, including the boundary waters of the Niobrara River, all of Knox County and that portion of Cedar County west of U.S. 81. Where the Niobrara river forms the boundary, both banks will be in the north Unit.

Platte River Unit: That area south and west of U.S. 281 at the Kansas/Nebraska border, north to Giltner Road (near Doniphan), east to NE 14, north to NE 91, west to U.S. 183, south to NE 92, west to NE 61, north to U.S. 2, west to the intersection of Garden, Grant, and Sheridan counties, then west along the northern border of Garden, Morrill, and Scotts Bluff counties to the Wyoming border.

Northcentral Unit: That area north of the Platte River Unit and west of U.S. 183.

East Unit: The remainder of Nebraska.

Light Geese

Rainwater Basin Light Goose Area (West): The area bounded by the junction of U.S. 283 and U.S. 30 at Lexington, east on U.S. 30 to U.S. 281, south on U.S. 281 to NE 4, west on NE 4 to U.S. 34, continue west on U.S. 34 to U.S. 283, then north on U.S. 283 to the beginning.

Rainwater Basin Light Goose Area (East): The area bounded by the junction of U.S. 281 and US 30 at Grand Island, north and east on U.S. 30 to NE 92, east on NE 92 to NE 15, south on NE 15 to NE 4, west on NE 4 to U.S. 281, north on U.S. 281 to the beginning.

Remainder of State: The remainder portion of Nebraska.

New Mexico (Central Flyway Portion)

Dark Geese

Middle Rio Grande Valley Unit: Sierra, Socorro, and Valencia counties.

Remainder: The remainder of the Central Flyway portion of New Mexico.

South Dakota

Canada Geese

Unit 1: Statewide except for Units 2, 3 and 4.

Big Stone Power Plant Area: That portion of Grant and Roberts Counties east of SD 15 and north of SD 20.

Unit 2: Brule, Buffalo, Charles Mix, Gregory, Hughes, Hyde, Lyman, Potter, Stanley, and Sully Counties and that portion of Dewey County south of U.S. 212.

Unit 3: Clark, Codington, Day, Deuel, Grant, Hamlin, Marshall, and Roberts Counties.

Unit 4: Bennett County.

Texas

West Unit: That portion of the State laying west of a line from the international toll bridge at Laredo; north along I-35 and I-35W to Fort Worth; northwest along U.S. 81 and U.S. 287 to Bowie; and north along U.S. 81 to the Oklahoma border.

East Unit: Remainder of State.

Wyoming (Central Flyway Portion)

Dark Geese

Area 1: Hot Springs, Natrona, and Washakie Counties, and the portion of Park County east of the Shoshone National Forest boundary and south of a line beginning where the Shoshone National Forest boundary crosses Park County Road 8VC, easterly along said road to Park County Road 1AB, easterly along said road to Wyoming Highway 120, northerly along said highway to Wyoming Highway 294, southeasterly along said highway to Lane 9, easterly along said lane to the town of Powel and Wyoming Highway 14A, easterly along said highway to the Park County and Big Horn County Line.

Area 2: Converse County.

Area 3: Albany, Big Horn, Campbell, Crook, Fremont, Johnson, Laramie, Niobrara, Sheridan, and Weston Counties, and that portion of Carbon County east of the Continental Divide; that portion of Park County west of the Shoshone National Forest boundary, and that Portion of Park County north of a line beginning where the Shoshone National Forest boundary crosses Park County Road 8VC, easterly along said road to Park County Road 1AB, easterly along said road to Wyoming Highway 120, northerly along said highway to Wyoming Highway 294, southeasterly along said highway to Lane 9, easterly along said lane to the town of Powel and Wyoming Highway 14A, easterly along said highway to the Park County and Big Horn County Line.

Area 4: Goshen and Platte Counties.

Pacific Flyway

Arizona

GMU 1 and 27: Game Management Units 1 and 27.

GMU 22 and 23: Game Management Units 22 and 23.

Remainder of State: The remainder of Arizona.

California

Northeastern Zone: In that portion of California lying east and north of a line beginning at the intersection of the Klamath River with the California-Oregon line; south and west along the Klamath River to the mouth of Shovel Creek; along Shovel Creek to its intersection with Forest Service Road 46N05 at Burnt Camp; west to its junction with Forest Service Road 46N10; south and east to its Junction with County Road 7K007; south and west to its junction with Forest Service Road 45N22; south and west to its junction with Highway 97 and Grass Lake Summit; south along to its junction with Interstate 5 at the town of Weed; south to its junction with Highway 89; east and south along Highway 89 to main street Greenville; north and east to its junction with North Valley Road; south to its junction of Diamond Mountain Road; north and east to its junction with North Arm Road; south and west to the junction of North Valley Road; south to the junction with Arlington Road (A22); west to the junction of Highway 89; south and west to the junction of Highway 70; east on Highway 70 to Highway 395; south and east on Highway 395 to the point of intersection with the California-Nevada state line; north along the California-Nevada state line to the junction of the California-Nevada-Oregon state lines west along the California-Oregon line state to the point of origin.

Colorado River Zone: Those portions of San Bernardino, Riverside, and Imperial Counties east of a line extending from the Nevada border south along U.S. 95 to Vidal Junction; south on a road known as “Aqueduct Road” in San Bernardino County through the town of Rice to the San Bernardino-Riverside County line; south on a road known in Riverside County as the “Desert Center to Rice Road” to the town of Desert Center; east 31 miles on I-10 to the Wiley Well Road; south on this road to Wiley Well; southeast along the Army-Milpitas Road to the Blythe, Brawley, Davis Lake intersections; south on the Blythe-Brawley paved road to the Ogilby and Tumco Mine Road; south on this road to U.S. 80; east seven miles on U.S. 80 to the Andrade-Algodones Road; south on this paved road to the Mexican border at Algodones, Mexico.

Southern Zone: That portion of southern California (but excluding the Colorado River Zone) south and east of a line extending from the Pacific Ocean east along the Santa Maria River to CA 166 near the City of Santa Maria; east on CA 166 to CA 99; south on CA 99 to the crest of the Tehachapi Mountains at Tejon Pass; east and north along the crest of the Tehachapi Mountains to CA 178 at Walker Pass; east on CA 178 to U.S. 395 at the town of Inyokern; south on U.S. 395 to CA 58; east on CA 58 to I-15; east on I-15 to CA 127; north on CA 127 to the Nevada border.

Balance-of-the-State Zone: The remainder of California not included in the Northeastern, Southern, and the Colorado River Zones.

Del Norte and Humboldt Area: The Counties of Del Norte and Humboldt.

Sacramento Valley Special Management Area (East): That area bounded by a line beginning at the junction of the Gridley-Colusa Highway and the Cherokee Canal; west on the Gridley-Colusa Highway to Gould Road; west on Gould Road and due west 0.75 miles directly to Highway 45; south on Highway 45 to Highway 20; east on Highway 20 to West Butte Road; north on West Butte Road to Pass Road; west on Pass Road to West Butte Road; north on West Butte Road to North Butte Road; west on North Butte Road and due west 0.5 miles directly to the Cherokee Canal; north on the Cherokee Canal to the point of beginning.

Sacramento Valley Special Management Area (West): That area bounded by a line beginning at Willows south on I-5 to Hahn Road; easterly on Hahn Road and the Grimes-Arbuckle Road to Grimes; northerly on CA 45 to the junction with CA 162; northerly on CA 45/162 to Glenn; and westerly on CA 162 to the point of beginning in Willows.

San Joaquin Valley Special Management Area: That area bounded by a line beginning at the intersection of Highway 5 and Highway 120; south on Highway 5 to Highway 33; southeast on Highway 33 to Crows Landing Road; north on Crows Landing Road to Highway 99; north on Highway 99 to Highway 120; west on Highway 120 to the point of beginning.

Western Canada Goose Hunt Area: That portion of the above described Sacramento Valley Area lying east of a line formed by Butte Creek from the Gridley-Colusa Highway south to the Cherokee Canal; easterly along the Cherokee Canal and North Butte Road to West Butte Road; southerly on West Butte Road to Pass Road; easterly on Pass Road to West Butte Road; southerly on West Butte Road to CA 20; and westerly along CA 20 to the Sacramento River.

Colorado (Pacific Flyway Portion)

West Central Area: Archuleta, Delta, Dolores, Gunnison, LaPlata, Montezuma, Montrose, Ouray, San Juan, and San Miguel Counties and those portions of Hinsdale, Mineral, and Saguache Counties west of the Continental Divide.

State Area: The remainder of the Pacific-Flyway Portion of Colorado.

Idaho

Zone 1: Benewah, Bonner, Boundary, Clearwater, Idaho, Kootenai, Latah, Lewis, Nez Perce, and Shoshone Counties.

Zone 2: The Counties of Ada; Adams; Boise; Canyon; those portions of Elmore north and east of I-84, and south and west of I-84, west of ID 51, except the Camas Creek drainage; Gem; Owyhee west of ID 51; Payette; Valley; and Washington.

Zone 3: The Counties of Blaine; Camas; Cassia; those portions of Elmore south of I-84 east of ID 51, and within the Camas Creek drainage; Gooding; Jerome; Lincoln; Minidoka; Owyhee east of ID 51; Power within the Minidoka National Wildlife Refuge; and Twin Falls.

Zone 4: The Counties of Bear Lake; Bingham within the Blackfoot Reservoir drainage; Bonneville, Butte; Caribou except the Fort Hall Indian Reservation; Clark; Custer; Franklin; Fremont; Jefferson; Lemhi; Madison; Oneida; Power west of ID 37 and ID 39 except the Minidoka National Wildlife Refuge; and Teton.

Zone 5: All lands and waters within the Fort Hall Indian Reservation, including private inholdings; Bannock County; Bingham County, except that portion within the Blackfoot Reservoir drainage; and Power County east of ID 37 and ID 39.

In addition, goose frameworks are set by the following geographical areas:

Northern Unit: Benewah, Bonner, Boundary, Clearwater, Idaho, Kootenai, Latah, Lewis, Nez Perce, and Shoshone Counties.

Southwestern Unit: That area west of the line formed by U.S. 93 north from the Nevada border to Shoshone, northerly on ID 75 (formerly U.S. 93) to Challis, northerly on U.S. 93 to the Montana border (except the Northern Unit and except Custer and Lemhi Counties).

Southeastern Unit: That area east of the line formed by U.S. 93 north from the Nevada border to Shoshone, northerly on ID 75 (formerly U.S. 93) to Challis, northerly on U.S. 93 to the Montana border, including all of Custer and Lemhi Counties.

Montana (Pacific Flyway Portion)

East of the Divide Zone: The Pacific Flyway portion of the State located east of the Continental Divide.

West of the Divide Zone: The remainder of the Pacific Flyway portion of Montana.

Nevada

Lincoln Clark County Zone: All of Lincoln and Clark Counties.

Remainder-of-the-State Zone: The remainder of Nevada.

New Mexico (Pacific Flyway Portion)

North Zone: The Pacific Flyway portion of New Mexico located north of I-40.

South Zone: The Pacific Flyway portion of New Mexico located south of I-40.

Oregon

Southwest Zone: Douglas, Coos, Curry, Josephine, and Jackson Counties.

Northwest Special Permit Zone: That portion of western Oregon west and north of a line running south from the Columbia River in Portland along I-5 to OR 22 at Salem; then east on OR 22 to the Stayton Cutoff; then south on the Stayton Cutoff to Stayton and due south to the Santiam River; then west along the north shore of the Santiam River to I-5; then south on I-5 to OR 126 at Eugene; then west on OR 126 to Greenhill Road; then south on Greenhill Road to Crow Road; then west on Crow Road to Territorial Hwy; then west on Territorial Hwy to OR 126; then west on OR 126 to OR 36; then north on OR 36 to Forest Road 5070 at Brickerville; then west and south on Forest Road 5070 to OR 126; then west on OR 126 to the Pacific Coast.

Northwest Zone: Those portions of Clackamas, Lane, Linn, Marion, Multnomah, and Washington Counties outside of the Northwest Special Permit Zone.

Closed Zone: Those portions of Coos and Curry Counties west of US 101 and all of Tilamook and Lincoln Counties.

Eastern Zone: Hood River, Wasco, Sherman, Gilliam, Morrow, Umatilla, Deschutes, Jefferson, Crook, Wheeler, Grant, Baker, Union, and Wallowa Counties.

Lake County Zone: All of Lake County.

Utah

Washington County Zone: All of Washington County.

Remainder-of-the-State Zone: The remainder of Utah.

Washington

Area 1: Skagit, Island, and Snohomish Counties.

Area 2A (SW Quota Zone): Clark County, except portions south of the Washougal River; Cowlitz, and Wahkiakum counties.

Area 2B (SW Quota Zone): Pacific and Grays Harbor counties.

Area 3: All areas west of the Pacific Crest Trail and west of the Big White Salmon River which are not included in Areas 1, 2A and 2B.

Area 4: Adams, Benton, Chelan, Douglas, Franklin, Grant, Kittitas, Lincoln, Okanogan, Spokane, and Walla Walla Counties.

Area 5: All areas east of the Pacific Crest Trail and east of the Big White Salmon River which are not included in Area 4.

Wyoming (Pacific Flyway Portion)

See State Regulations.

Bear River Area: That portion of Lincoln County described in State regulations.

Salt River Area: That portion of Lincoln County described in State regulations.

Eden-Farson Area: Those portions of Sweetwater and Sublette Counties described in State regulations.

Swans

Central Flyway

South Dakota

Aurora, Beadle, Brookings, Brown, Brule, Buffalo, Campbell, Clark, Codington, Davison, Deuel, Day, Edmunds, Faulk, Grant, Hamlin, Hand, Hanson, Hughes, Hyde, Jerauld, Kingsbury, Lake, Marshall, McCook, McPherson, Miner, Minnehaha, Moody, Potter, Roberts, Sanborn, Spink, Sully, and Walworth Counties.

Pacific Flyway

Montana (Pacific Flyway Portion)

Open Area: Cascade, Chouteau, Hill, Liberty, and Toole Counties and those portions of Pondera and Teton Counties lying east of U.S. 287-89.

Nevada

Open Area: Churchill, Lyon, and Pershing Counties.

Utah

Open Area: Those portions of Box Elder, Weber, Davis, Salt Lake, and Toole Counties lying west of I-15, north of I-80 and south of a line beginning from the Forest Street exit to the Bear River National Wildlife Refuge boundary, then north and west along the Bear River National Wildlife Refuge boundary to the farthest west boundary of the Refuge, then west along a line to Promontory Road, then north on Promontory Road to the intersection of SR 83, then north on SR 83 to I-84, then north and west on I-84 to State Hwy 30, then west on State Hwy 30 to the Nevada-Utah state line, then south on the Nevada-Utah state line to I-80.

[FR Doc. 01-24069 Filed 9-26-01; 8:45 am]

BILLING CODE 4310-55-P